DEPARTMENT OF ENERGY

10 CFR Parts 430 and 431

RIN 1904-AB74

Energy Conservation Standards for Certain Consumer Products and Commercial and Industrial Equipment

AGENCY: Office of Energy Efficiency and Renewable Energy, Department of Energy.

ACTION: Final rule; technical amendment.

SUMMARY: The Department of Energy (DOE) is publishing this technical amendment to place the energy conservation standards and test procedures, and related definitions, prescribed in the Energy Independence and Security Act of 2007 (EISA 2007) for certain consumer products and commercial and industrial equipment in the Code of Federal Regulations.

DATES: Effective Date: March 23, 2009. The incorporation by reference of certain publications listed in this rule is approved by the Director of the Federal Register as of March 23, 2009.

FOR FURTHER INFORMATION CONTACT: Michael J. McCabe, U.S. Department of Energy, Office of Energy Efficiency and Renewable Energy, Forrestal Building, Mail Station EE-2J, 1000 Independence Avenue, SW., Washington, DC 20585-0121, (202) 586-9155, e-mail: Michael.Mccabe@ee.doe.gov.

Francine Pinto, Esq., U.S. Department of Energy, Office of General Counsel, Forrestal Building, Mail Station GC-72, 1000 Independence Avenue, SW., Washington, DC 20585-0103, (202) 586-7432, e-mail: Francine.Pinto@hq.doe.gov.

SUPPLEMENTARY INFORMATION: This final rule incorporates by reference the following industry standards:

• ANSI C78.20-2003, Revision of ANSI C78.20-1995 (“ANSI C78.20”), American National Standard for electric lamps—A, G, PS, and Similar Shapes with E26 Medium Screw Bases, approved October 30, 2003;

• ANSI C78.21-1989, American National Standard for Electric Lamps—PAR and R Shapes, approved March 3, 1989;

• ANSI C78.21-2003, Revision of ANSI C78.21-1995 with all supplements, American National Standard for Electric Lamps—PAR and R Shapes, approved October 30, 2003;

• ANSI C78.43-2004, Revision and consolidation of ANSI C78.1372-1997, .1374-1997, .1375-1997, .1376-1997, .1377-1997, .1378-1997, .1379-1997, .1382-1997, .1384-1997, and .1650-2003, (“ANSI C78.43”), American National Standard for electric lamps: Single-Ended Metal Halide Lamps, approved May 5, 2004.

• ANSI C79.1-1994, American National Standard for Nomenclature for Glass Bulbs—Intended for Use with Electric Lamps, approved March 24, 1994;

• ANSI C79.1-2002, American National Standard for Electric Lamps-Nomenclature for Glass Bulbs Intended for Use with Electric Lamps, approved September 16, 2002;

• ANSI_ANSLG_C81.61-2006, Revision of ANSI C81.61-2005 (“ANSI C81.61”), American National Standard for electrical lamp bases—Specifications for Bases (Caps) for Electric Lamps, approved August 25, 2006;

• ANSI C82.6-2005, Proposed Revision of ANSI C82.6-1985 (“ANSI C82.6”), American National Standard for lamp ballasts—Ballasts for High-Intensity Discharge Lamps—Methods of Measurement, approved February 14, 2005.

Copies of the materials are available from: American National Standards Institute (ANSI), 25 W. 43rd Street, 4th Floor, New York, NY 10036, 212-642-4900, or go to http://www.ansi.org.

• ASTM C518-04, (“ASTM C518”), Standard Test Method for Steady-State Thermal Transmission Properties by Means of the Heat Flow Meter Apparatus, approved May 1, 2004.

Copies of the material are available from: American Society for Testing and Materials (ASTM), 100 Barr Harbor Drive, West Conshohocken, PA 19428-2959, (610) 832-9500, or http://www.astm.org.

• CIE 13.3-1995 (“CIE 13.3”), Commission Internationale de l'Eclairage International Commission on Illumination Internationale Beleuchtungskommission Technical Report: Method of Measuring and Specifying Colour Rendering Properties of Light Sources, 1995, ISBN 3 900 734 57 7.

Copies are available from: Commission Internationale de l'Eclairage (CIE), Central Bureau, Kegelgasse 27, A-1030, Vienna, Austria, 011+43 1 714 31 87 0, or go to http://www.cie.co.at.

• Energy Star Program Requirements for Single Voltage External Ac-Dc and Ac-Ac Power Supplies, Eligibility Criteria (Version 2.0), published by the Environmental Protection Agency, effective date for EPS Manufacturers November 1, 2008.

Copies of the material are available online at http://www.energystar.gov or by contacting the Energy Star hotline at 1-888-782-7937.

• The IESNA Lighting Handbook, Reference & Application, (“The IESNA Lighting Handbook”), 9th ed., Chapter 6, “Light Sources,” July 2000;

• IESNA LM-16-1993 (“IESNA LM-16”), IESNA Practical Guide to Colorimetry of Light Sources and the 1931 CIE chromaticity diagram, Figure 2 on page 3, December 1993.

Copies of the materials are available from: Illuminating Engineering Society of North America (IESNA), 120 Wall Street, Floor 17, New York, NY 10005-4001, 212-248-5000, or go to http://www.iesna.org.

• “Computation of Correlated Color Temperature and Distribution Temperature,” A.R. Robertson, Journal of the Optical Society of America, Volume 58, Number 11, November 1968, pages 1528-1535.

Copies are available from: Optical Society of America, 2010 Massachusetts Ave., NW., Washington, DC 20036-1012, 202-223-8130, or go to http://www.opticsinfobase.org.

• NFPA 70-2002, (“NFPA 70”), National Electrical Code 2002 Edition.

Copies of the material are available from: The National Fire Protection Association, 11 Tracy Drive, Avon, MA 02322, 1-800-344-3555, or go to http://www.nfpa.org.

• NSF/ANSI 51-2007, (“NSF/ANSI 51”), Food equipment materials, revised and adopted April 2007.

Copies of the material are available from: NSF International, P.O. Box 130140, 789 North Dixboro Road, Ann Arbor, MI 48113-0140, 1-800-673-6275, or go to http://www.nsf.org.

• UL 1029, (ANSI/UL 1029-2007) (“UL 1029”), Standard for Safety High-Intensity-Discharge Lamp Ballasts, 5th edition, May 25, 1994, which consists of pages dated May 25, 1994, September 28, 1995, August 3, 1998, February 7, 2001 and December 11, 2007.

Copies of the material are available from: Underwriters Laboratories, Inc., COMM 2000, 1414 Brook Drive Downers Grove, IL 60515, 1-888-853-3503, or go to http://www.ul.com.

You can also view copies of all of these standards at the U.S. Department of Energy, Resource Room of the Building Technologies Program, 950 L'Enfant Plaza, SW., 6th Floor, Washington, DC 20024, (202) 586-2945, between 9 a.m. and 4 p.m., Monday through Friday, except Federal holidays.

I. Background

II. Summary of This Action

A. Definitions and Standards

B. General Provisions and Technical Amendments

III. Final Action

IV. Procedural Requirements

V. Approval of the Office of the Secretary

I. Background

The Energy Independence and Security Act of 2007 (EISA 2007) (Pub. L. 110-140) was enacted on December 19, 2007. Among the provisions of subtitle A of title III of EISA 2007 are provisions that amend Part A of Title III of the Energy Policy and Conservation Act (EPCA) (42 U.S.C. 6291-6309), which provides for an energy conservation program for consumer products other than automobiles, and Part A-1 of Title III of EPCA (42 U.S.C. 6311-6317), which provides for an energy conservation program for certain commercial and industrial equipment, similar to the one in Part A for consumer products. In addition to establishing energy conservation standards, EISA 2007 directs DOE to undertake rulemakings to promulgate new or amended energy conservation standards for various consumer products and commercial and industrial equipment.

By today's action, DOE is placing in the Code of Federal Regulations (CFR), for the benefit of the public, the energy conservation standards and related definitions prescribed by EISA 2007 for various consumer products and commercial and industrial equipment. In this technical amendment, DOE is not exercising any of the discretionary authority that Congress has provided in EISA 2007 for the Secretary of Energy to revise, by rule, certain product or equipment definitions and energy conservation standards. DOE may exercise this discretionary authority at a later time in rulemakings to establish test procedures or efficiency standards for these products and equipment.

II. Summary of This Action

DOE is placing the new energy conservation standards and related definitions into 10 CFR Part 430 (“Energy Conservation Program for Consumer Products”) or 10 CFR Part 431 (“Energy Efficiency Program for Certain Commercial and Industrial Equipment”), as appropriate given the nature or type of the product or equipment. EISA 2007 includes provisions dealing with the definitions, test procedures and standards for certain types of commercial equipment in a section that amends section 325 of Part A of Title III of EPCA. Part A contains provisions for the “Energy Conservation Program for Consumer Products Other Than Automobiles” where Part A-1 of Title III of EPCA contains provisions for “Certain Industrial Equipment.” The location of the provisions within the statute and the CFR does not affect either their substance or applicable procedures, however, DOE is placing them in the appropriate CFR part based on their nature or type. DOE provides a “cross-walk” in Table 1 that shows the location of the standards for the products and equipment in the CFR and EISA 2007.¹

¹ DOE notes that Sec. 303 of EISA 2007 prescribed energy conservation standards for residential boilers. The prescribed standards for residential boilers were codified in the Furnace and Boiler Technical Amendment, which was published in the Federal Register on July 28, 2008. 73 FR 43611.

Table 1
Product/Equipment type | CFR location | EISA 2007 section
Dishwashers | § 430.32(f) | Sec. 311(a).
Residential clothes washers | § 430.32(g) | Sec. 311(a).
General service fluorescent lamps and incandescent reflector lamps | § 430.32(n) | Sec 322(b).
Dehumidifiers | § 430.32(v) | Sec. 311(a).
Class A external power supplies | § 430.32(w) | Sec. 301(c).
General service incandescent lamps, intermediate base incandescent lamps and candelabra base incandescent lamps | § 430.32(x) | Sec 321(a).
Electric motors | Part 431, Subpart B | Sec. 313(b).
Commercial package air conditioning and heating equipment | Part 431, Subpart F | Sec. 314(b).
Mercury vapor lamp ballasts | Part 431, Subpart P | Sec 316(d).
Walk-in coolers and walk-in freezers | Part 431, Subpart R | Sec. 312(b).
Metal halide lamp fixtures | Part 431, Subpart S | Sec. 324(e).

Where the statute establishes a prescriptive standard that either adopts or is based on voluntary standards of another entity, DOE has incorporated the relevant portion of the source document into the CFR text so that the CFR can be a fully self-contained regulation. This applies to the efficiency standards for general purpose electric motors (subtype I), general purpose electric motors (subtype II), fire pump motors and NEMA design B general purpose electric motors that shall be the same as voluntary standards published by the National Electrical Manufacturers Association (NEMA) MG-1-2006.

DOE notes that while EISA 2007 has prescribed energy conservation standards that will apply to products and equipment manufactured on or after the specific dates, manufacturers are not subject to DOE's compliance certification and enforcement programs until DOE promulgates the related test procedures for the new covered products and commercial equipment. While manufacturers are not subject to DOE certification and enforcement programs until DOE promulgates test procedures and related regulations, manufacturers must meet the standards as of the effective date of the standards. Manufacturers must, for example, be able to demonstrate that their products meet the energy conservation standards or energy design standards set by EISA 2007. Furthermore, the EPCA, as amended, defines the term “manufacture” as “to manufacture, produce, assemble, or import” (42 U.S.C. 6291(10)). Therefore, all consumer products and commercial and industrial equipment covered by this action must, on the date of manufacture, or in the case of imported products, as of the date of import, meet the standards set by EISA 2007 and adopted in the CFR by this action. Furthermore, the requirements in EISA 2007 apply to the manufacture of covered consumer products and commercial and industrial equipment for sale in the 50 states as well as all U.S. territories. In order to clarify that energy conservation standards apply to both products manufactured in the U.S. for sale in the U.S. as well as products imported in the U.S., DOE is adding the terms “manufacture” and “import” to 10 CFR Parts 430 and 431.

In addition, EISA 2007 added several general provisions to EPCA, including provisions for petitions by interested parties that DOE initiate a rulemaking for manufacturer exemptions from the standards for general service lamps as well as a petition for DOE to initiate a rulemaking for lamp shapes or bases that are excluded from the definition of general service lamps. EISA 2007 also added provisions with respect to prohibited acts regarding regional standards for furnaces, boilers, central air conditioners and central air conditioning heat pumps. These provisions are added to Part 430 by today's final rule.

A. Definitions and Standards

The definitions and standards incorporated into the CFR by today's action are briefly discussed as follows:

1. Dishwashers. Section 311(a) of EISA 2007 amended section 325(g) of the EPCA to adopt energy conservation standards and water conservation standards for residential dishwashers manufactured on or after January 1, 2010. The current energy conservation standard for dishwashers is in terms of Energy Factor (cycles/kWh) whereas the January 1, 2010, energy conservation standard is in terms of maximum allowable energy use per year (kWh/year). By today's final rule, DOE is adding the maximum allowable energy use requirements to section 430.32(g). DOE defines annual energy use in section 430.23(c)(3) and the methods for measuring dishwasher energy use are found at Appendix C to subpart B of 10 CFR Part 430. Methods for measuring dishwasher water consumption are found at section 5.3 of Appendix C to subpart B of 10 CFR Part 430.

2. Residential clothes washers. Section 311(a) of EISA 2007 amended section 325(g) of EPCA to adopt energy conservation and water conservation standards for residential clothes washers manufactured on or after January 1, 2011. The energy conservation standard for top-loading and front-loading standard-size residential clothes washers is in terms of Modified Energy Factor (MEF), the same as the existing residential clothes washer standard. EISA 2007 adds a Water Factor (WF) which has not been regulated by the existing standards. However, DOE defines WF (water consumption factor) and provides a method for measuring WF in Appendix J1 to subpart B of 10 CFR Part 430.

3. General service fluorescent lamps and incandescent reflector lamps. Section 322(b) of EISA 2007 amended section 325(i) of EPCA by amending paragraph (1). EISA 2007 removed the existing tables of energy conservation standards for fluorescent lamps and incandescent reflector lamps in EPCA and replaced them with identical tables such that no changes to the energy conservation standards were made. Therefore, DOE is not making any changes to the CFR. In addition, section 322 of EISA 2007 extended coverage of the incandescent reflector lamps to include certain ER, BR and BPAR reflector lamps, added definitions for these lamps and established energy conservation standards that are effective for ER, BR and BPAR reflector lamps manufactured on and after January 1, 2008. DOE is adding the definitions to section 430.2 and the energy conservation standards for these bulbs to section 430.32(n). The existing test procedures for reflector lamps found in Appendix R to subpart B of 10 CFR Part 430 apply to ER, BR and BPAR reflector lamps.

4. Dehumidifiers. Section 311(a) of EISA 2007 amended EPCA to add new section 325(cc)(2) setting energy conservation standards for dehumidifiers manufactured on or after October 1, 2012. The energy conservation standards for dehumidifiers are in terms of energy factor levels, as are the current energy conservation standards for dehumidifiers. The EISA 2007 energy conservation standards for dehumidifiers are added to section 430.32(v). No further changes or additions are made with respect to dehumidifiers by today's final rule.

5. Class A external power supplies. Section 301 of EISA 2007 amended sections 321 and 325(u) of EPCA by adding definitions and establishing energy conservation standards for Class A external power supplies manufactured on or after July 1, 2008. Today's final rule adds the EISA 2007 definitions for external power supplies to section 430.2 and energy conservation standards for Class A external power supplies to section 430.32(w). No further changes or additions are made with respect to Class A external power supplies by today's final rule. DOE notes, however, that section 310 of EISA 2007 further modifies section 325 of EPCA, requiring DOE to amend existing test procedures, including for Class A external power supplies, to take into account energy consumption and standby and off modes. (42 U.S.C. 6295(gg)(2)). DOE published a final rule on December 8, 2006, in which it adopted test procedures for external power supplies (71 FR 71340, codified in Appendix Z to Subpart B to 10 CFR part 430). The December 8, 2006, final rule, however, did not include test procedures for external power supplies in the standby and off-modes. DOE therefore plans on initiating a separate rulemaking to establish standby- and off-mode test procedures for external power supplies, including Class A external power supplies.

6. General service incandescent lamps, intermediate base incandescent lamps and candelabra base incandescent lamps. Section 321(a) of EISA 2007 amended sections 321 and 325 of EPCA to add definitions and set energy conservation standards for general service incandescent lamps and modified spectrum general service incandescent lamps for certain rated lumen ranges and effective dates. In addition, EISA 2007 amended section 325 of EPCA to set energy conservation standards for candelabra incandescent lamps and intermediate base incandescent lamps. A candelabra base incandescent lamp shall not exceed 60 rated watts and an intermediate base incandescent lamp shall not exceed 40 rated watts. Today's final rule adds the definitions for general service incandescent lamps, intermediate base incandescent lamps and candelabra base incandescent lamps to section 430.2 and energy conservation standards for these lamps to section 430.32(x). No further changes or additions are made with respect to general service lamps, intermediate base incandescent lamps and candelabra base incandescent lamps, other than the general provisions discussed in section II.B of today's final rule.

7. Electric motors. Section 313 of EISA 2007 amended sections 340 and 342 of EPCA to add definitions and set energy conservation standards for general purpose electric motors (subtype I), fire pump motors, general purpose electric motors (subtype II) and NEMA design B general purpose electric motors. EISA 2007 requires that general purpose electric motors (subtype I) with a power rating of 1 horsepower or greater, but not greater than 200 horsepower, manufactured alone or as a component of another piece of equipment on or after December 19, 2010 shall meet the nominal full load efficiency levels specified in Table 12-12 of National Electrical Manufacturers Association (NEMA) MG-1 2006, “Motors and Generators.” In addition, EISA 2007 requires that fire pump motors; general purpose electric motors (subtype II) with a power rating of 1 horsepower or greater, but not greater than 200 horsepower; and NEMA design B general purpose electric motors with a power rating of more than 200 horsepower, but not greater than 500 horsepower manufactured alone or as a component of another piece of equipment on or after December 19, 2010 shall meet the full load efficiency levels specified in Table 12-11 of NEMA MG-1 2006, “Motors and Generators.” For the benefit of stakeholders looking for the standards specified in EISA 2007, DOE is codifying the efficiency levels specified in Table 12-11 and Table 12-12 of NEMA MG-1-2006 in the Code of Federal Regulations. NEMA issued an erratum in April 2007 and a full Revision (“Rev 1”) in November 2007 to NEMA MG-1 2006. The revisions are reflected in today's final rule. The EISA 2007 definitions for electric motors are added to section 431.12 and the energy conservation standards are added to section 431.25. The Department notes that EISA 2007 added energy conservation standards for fire pump motors and NEMA design B general purpose motors, but did not define either class of motors. Today's final rule adds the energy conservation standards for these two classes and adds the terms “fire pump motors” and “NEMA design B general purpose motors” without defining the terms. DOE has initiated a rulemaking to adopt definitions for these terms. (73 FR 78220, December 22, 2008) No further changes or additions are made with respect to electric motors by today's final rule.

8. Commercial package air conditioning and heating equipment. Section 314 of EISA 2007 amended sections 340 and 342(a) of EPCA to add definitions of new classes of commercial package air conditioning and heating equipment and to establish energy conservation standards for commercial package air-conditioning and heating equipment. Small commercial package air-conditioning and heating equipment (other than single package vertical air conditioners) manufactured on or after June 16, 2008 shall meet specific minimum energy efficiency levels, depending on category and product capacity (Btu per hour) specified in EISA 2007. In addition, single package vertical units manufactured on or after January 1, 2010, shall meet specific minimum energy efficiency levels, depending on category, product capacity (Btu per hour) and the type of heating, if any are specified in EISA 2007. DOE is amending section 431.92 to add the new definitions and section 431.97 to add the new energy conservation standards. No further changes or additions are made with respect to commercial package air conditioning and heating equipment by today's final rule.

9. Mercury vapor lamp ballasts. The Energy Policy Act of 2005 (EPACT 2005) amended EPCA to establish energy conservation standards for mercury vapor lamp ballasts. EPACT 2005 prohibited the manufacture or importation of mercury vapor lamp ballasts after January 1, 2008. Section 316(d) of EISA 2007 amended section 325 of EPCA to provide an exception for specialty application mercury vapor lamp ballasts. Today's final rule adds the definitions in EISA 2007 to section 431.282 and the exception to the standard for specialty application mercury vapor lamp ballasts in section 431.286. No further changes or additions are made with respect to mercury vapor lamp ballasts by today's final rule.

10. Walk-in coolers and walk-in freezers. Section 312(b) of EISA 2007 amended sections 340, 342 and 343 of EPCA to add definitions, energy conservation standards, and test procedures for measuring the thermal resistance (R value) of the panels of walk-in coolers and walk-in freezers. The energy conservation standards require a minimum R value of the walk-in cooler and walk-in freezer panels as well as requirements for doors, door closures, motors and lighting used in walk-in coolers and walk-in freezers manufactured on or after January 1, 2009. In addition, EISA 2007 directs DOE to develop test procedures to measure the energy use of walk-in coolers and walk-in freezers and to establish energy conservation standards for walk-in coolers and walk-in freezers that limit the maximum amount of energy use of this equipment. DOE is adding the definitions in a new section 431.302 and the energy conservation standards in a new section 431.306. Today's final rule also adopts, by reference, the test procedures adopted by ASTM International for measuring thermal resistance of insulation, ASTM C518, “Standard Test Method for Steady-State Thermal Transmission Properties by Means of the Heat Flow Meter Apparatus.” Test procedures to measure the energy use of walk-in coolers and walk-in freezers will be developed through a separate rulemaking.

11. Metal halide lamp fixtures. Section 324(e) of EISA 2007 amended sections 321 and 325 of EPCA to add definitions and set energy conservation standards for metal halide lamp fixtures effective January 1, 2009. The EISA 2007 definitions for metal halide lamp fixtures are added to section 431.322 and the energy conservation standards are added to section 431.326. No further changes or additions are made with respect to metal halide lamp fixtures by today's final rule.

B. General Provisions and Technical Amendments

In addition to amending and adding definition and standards, section 316 of EISA 2007 included several technical corrections. Section 316(a) of EISA 2007 amended section 135(a)(1)(A)(ii) of the Energy Policy Act of 2005 by striking “C78.1-1978(R1984)” and inserting “C78.3-1978(R1984).” Section 316(b) of EISA 2007 amended section 321(30)(B)(viii) of EPCA by striking “82” and inserting “87.” Section 316(c) of EISA 2007 amended section 301(a)(2) of EPCA by amending definitions for “high intensity discharge lamp,” “mercury vapor lamp,” and “mercury vapor lamp ballast” and adding a definition for “specialty application mercury vapor lamp ballast.” Section 316(d) amended section 325(ff)(1)(A)(ii)(II) of EPCA to substitute “fans sold for outdoor applications” for “outdoor application.” In addition, section 316(d) amends section 325(ff)(4)(C) striking subparagraph (B) and inserting subparagraph (A) and adding paragraph (ii) to section 325(ff)(4)(C).

EISA 2007 added several general provisions to EPCA, including provisions for petitions by any person requesting that DOE grant manufacturer exemptions from the standards for general service lamps as well as a petition for DOE to establish standards for lamp shapes or bases that are excluded from the definition of general service lamps. In addition, EISA 2007 added provisions with respect to prohibited acts regarding regional standards for furnaces, boilers, central air conditioners and central air conditioning heat pumps. These provisions are codified verbatim by today's final rule. The petition provisions regarding general service lamps are added to a new section 430.35 while the new prohibited acts regarding regional standards and adapters for general service lamps are added to section 430.61.

III. Final Action

DOE has determined, pursuant to 5 U.S.C. 553(b)(B), that prior notice and an opportunity for public comment on this final rule are unnecessary. DOE is merely placing in the Code of Federal Regulations for the benefit of the public energy conservation standards, test procedures, and related definitions prescribed by Congress in EISA 2007 for certain consumer products and commercial and industrial equipment. DOE is not exercising any of the discretionary authority that Congress has provided in EISA 2007 for the Secretary of Energy to revise, by rule, product or equipment definitions, test procedures and energy conservation standards. DOE, therefore, finds that good cause exists to waive prior notice and an opportunity to comment for this rulemaking. For the same reasons, DOE, pursuant to 5 U.S.C. 553(d)(3), finds that good cause exists for making this final rule effective upon publication in the Federal Register.

IV. Procedural Requirements

A. Review Under Executive Order 12866, “Regulatory Planning and Review”

Today's final rule is not a “significant regulatory action” under section 3(f)(1) of Executive Order 12866, “Regulatory Planning and Review.” 58 FR 51735 (October 4, 1993). Accordingly, today's action was not subject to review by the Office of Information and Regulatory Affairs (OIRA) in the Office of Management and Budget (OMB). However, DOE estimated the energy, economic and environmental benefits of the standards established by EISA 2007 and adopted by today's final rule.

Where possible, DOE used available data to provide estimates of the impacts of the prescribed standards in EISA 2007. Before EISA 2007, DOE completed or began the rulemaking process and conducted preliminary energy and cost benefit analyses for a number of the above prescribed standards. In addition, for some products prior analyses not part of the rulemaking process were conducted by DOE or an outside source, and those analyses were used to provide estimates. There are several products for which DOE did not have analyses that could be readily used for this final rule. Instead, DOE developed a methodology for producing preliminary estimates of energy, economic and environmental savings to assess the impact of these standards. DOE gathered annual shipment data, baseline efficiency levels, and typical product usage to determine energy savings benefits. To determine cost benefits for products where data is not already available, DOE analyzed the approximate changes in retail price that consumers might experience moving from the baseline efficiency to the EISA 2007 compliant product.

DOE analyzed energy savings, installed cost, value of energy savings, emission reductions for the standards prescribed by Congress in EISA 2007. To determine the consumer energy saving benefits, DOE must determine the annual energy use, shipment data, equipment stock, national energy consumption, and site-to-source conversion factors. The value of the energy savings is estimated as the value in the present of a time series of costs and savings. Lastly, the emissions reductions were calculated for the decreased energy consumption.

DOE estimates the prescribed standards in EISA 2007 will save approximately 31 quads (quadrillion (10¹⁵) British thermal units (Btu)) of energy over 30 years (2008-2038). These energy savings are projected to result in cumulative greenhouse gas emission reductions of approximately 487 million metric ton carbon equivalent (MMTCE) of carbon dioxide (CO2). In addition, the net present value to the nation is approximately $48-$105 billion dollars. The complete results of the analyses are in a Technical Support Document (TSD) that is available on the Internet at http://www1.eere.energy.gov/buildings/appliance_standards.

B. Review Under the Regulatory Flexibility Act

The Regulatory Flexibility Act (5 U.S.C. 601 et seq.) requires preparation of an initial regulatory flexibility analysis for any rule that by law must be proposed for public comment, unless the agency certifies that the rule, if promulgated, will not have a significant economic impact on a substantial number of small entities. As required by Executive Order 13272, Proper Consideration of Small Entities in Agency Rulemaking, 67 FR 53461 (August 16, 2002), DOE published procedures and policies on February 19, 2003, to ensure that the potential impacts of its rules on small entities are properly considered during the rulemaking process. 68 FR 7990. The Department has made its procedures and policies available on the Office of General Counsel's web site: http://www.gc.doe.gov. DOE today is revising the Code of Federal Regulations to incorporate, without substantive change, energy conservation standards and related provisions prescribed by the Energy Independence and Security Act of 2007 as amendments to the Energy Policy and Conservation Act. Because this is a technical amendment for which a general notice of proposed rulemaking is not required, the Regulatory Flexibility Act does not apply to this rulemaking.

C. Review Under the Paperwork Reduction Act of 1995

This rulemaking imposes no new information or record keeping requirements. Accordingly, Office of Management and Budget clearance is not required under the Paperwork Reduction Act. (44 U.S.C. 3501 et seq.)

D. Review Under the National Environmental Policy Act of 1969

DOE has determined that this rule is covered under the Categorical Exclusion found in DOE's National Environmental Policy Act regulations at paragraph A.6 of Appendix A to Subpart D, 10 CFR part 1021, which applies to rulemakings that are strictly procedural. Accordingly, neither an environmental assessment nor an environmental impact statement is required.

E. Review Under Executive Order 13132, “Federalism”

Executive Order 13132, “Federalism,” 64 FR 43255 (August 4, 1999), imposes certain requirements on agencies formulating and implementing policies or regulations that preempt State law or that have federalism implications. The Executive Order requires agencies to examine the constitutional and statutory authority supporting any action that would limit the policymaking discretion of the States and to carefully assess the necessity for such actions. The Executive Order also requires agencies to have an accountable process to ensure meaningful and timely input by State and local officials in the development of regulatory policies that have federalism implications. On March 14, 2000, DOE published a statement of policy describing the intergovernmental consultation process it will follow in the development of such regulations. 65 FR 13735. DOE examined this final rule and determined that while it preempts State law, it does not have a substantial direct effect on the States, on the relationship between the national government and the States, or on the distribution of power and responsibilities among the various levels of government. No further action is required by Executive Order 13132.

F. Review Under Executive Order 12988, “Civil Justice Reform”

With respect to the review of existing regulations and the promulgation of new regulations, section 3(a) of Executive Order 12988, “Civil Justice Reform,” 61 FR 4729 (February 7, 1996), imposes on Federal agencies the general duty to adhere to the following requirements: (1) Eliminate drafting errors and ambiguity; (2) write regulations to minimize litigation; and (3) provide a clear legal standard for affected conduct rather than a general standard and promote simplification and burden reduction. Section 3(b) of Executive Order 12988 specifically requires that Executive agencies make every reasonable effort to ensure that the regulation: (1) Clearly specifies the preemptive effect, if any; (2) clearly specifies any effect on existing Federal law or regulation; (3) provides a clear legal standard for affected conduct while promoting simplification and burden reduction; (4) specifies the retroactive effect, if any; (5) adequately defines key terms; and (6) addresses other important issues affecting clarity and general draftsmanship under any guidelines issued by the Attorney General. Section 3(c) of Executive Order 12988 requires Executive agencies to review regulations in light of applicable standards in section 3(a) and section 3(b) to determine whether they are met or it is unreasonable to meet one or more of them. DOE has completed the required review and determined that, to the extent permitted by law, this final rule meets the relevant standards of Executive Order 12988.

G. Review Under the Unfunded Mandates Reform Act of 1995

Title II of the Unfunded Mandates Reform Act of 1995 (UMRA) (Pub. L. 104-4) requires each Federal agency to assess the effects of Federal regulatory actions on State, local, and Tribal governments and the private sector. For a proposed regulatory action likely to result in a rule that may cause the expenditure by State, local, and Tribal governments, in the aggregate, or by the private sector of $100 million or more in any one year (adjusted annually for inflation), section 202 of UMRA requires a Federal agency to publish a written statement that estimates the resulting costs, benefits, and other effects on the national economy. (2 U.S.C. 1532(a),(b)) The UMRA also requires a Federal agency to develop an effective process to permit timely input by elected officers of State, local, and Tribal governments on a proposed “significant intergovernmental mandate,” and requires an agency plan for giving notice and opportunity for timely input to potentially affected small governments before establishing any requirements that might significantly or uniquely affect small governments. On March 18, 1997, DOE published a statement of policy on its process for intergovernmental consultation under UMRA (62 FR 12820) (also available at http://www.gc.doe.gov). This final rule contains neither an intergovernmental mandate nor a mandate that may result in the expenditure of $100 million or more in any year, so these requirements under the Unfunded Mandates Reform Act do not apply.

H. Review Under the Treasury and General Government Appropriations Act, 1999

Section 654 of the Treasury and General Government Appropriations Act, 1999 (Pub. L. 105-277) requires Federal agencies to issue a Family Policymaking Assessment for any rule that may affect family well-being. This final rule would not have any impact on the autonomy or integrity of the family as an institution. Accordingly, DOE has concluded that it is not necessary to prepare a Family Policymaking Assessment.

I. Review Under Executive Order 12630, “Governmental Actions and Interference With Constitutionally Protected Property Rights”

The Department has determined, under Executive Order 12630, “Governmental Actions and Interference with Constitutionally Protected Property Rights,” 53 FR 8859 (March 18, 1988), that this rule would not result in any takings which might require compensation under the Fifth Amendment to the United States Constitution.

J. Review Under the Treasury and General Government Appropriations Act, 2001

Section 515 of the Treasury and General Government Appropriations Act, 2001 (44 U.S.C. 3516, note) provides for agencies to review most disseminations of information to the public under guidelines established by each agency pursuant to general guidelines issued by OMB. OMB's guidelines were published at 67 FR 8452 (February 22, 2002), and DOE's guidelines were published at 67 FR 62446 (October 7, 2002). DOE has reviewed today's rulemaking under the OMB and DOE guidelines and has concluded that it is consistent with applicable policies in those guidelines.

K. Review Under Executive Order 13211, “Actions Concerning Regulations That Significantly Affect Energy Supply, Distribution, or Use”

Executive Order 13211, “Actions Concerning Regulations That Significantly Affect Energy Supply, Distribution, or Use,” 66 FR 28355 (May 22, 2001), requires Federal agencies to prepare and submit to the Office of Information and Regulatory Affairs (OIRA), Office of Management and Budget, a Statement of Energy Effects for any proposed significant energy action. A “significant energy action” is defined as any action by an agency that promulgated or is expected to lead to promulgation of a final rule, and that: (1) Is a significant regulatory action under Executive Order 12866, or any successor order; and (2) is likely to have a significant adverse effect on the supply, distribution, or use of energy, or (3) is designated by the Administrator of OIRA as a significant energy action. For any proposed significant energy action, the agency must give a detailed statement of any adverse effects on energy supply, distribution, or use should the proposal be implemented, and of reasonable alternatives to the action and their expected benefits on energy supply, distribution, and use. This final rule would not have a significant adverse effect on the supply, distribution, or use of energy and, therefore, is not a significant energy action. Accordingly, DOE has not prepared a Statement of Energy Effects.

L. Congressional Notification

As required by 5 U.S.C. 801, DOE will report to Congress on the promulgation of this rule prior to its effective date. The report will state that it has been determined that the rule is not a “major rule” as defined by 5 U.S.C. 804(2).

V. Approval of the Office of the Secretary

The Secretary of Energy has approved publication of today's final rule.

List of Subjects

10 CFR Part 430

Administrative practice and procedure, Energy conservation, Household appliances, Incorporation by reference.

10 CFR Part 431

Administrative practice and procedure, Commercial products, Energy conservation, Incorporation by reference.

Issued in Washington, DC, on March 11, 2009.
Rita L. Wells,
Acting Deputy Assistant Secretary for Business Administration, Energy Efficiency and Renewable Energy.

For the reasons stated in the preamble, DOE hereby amends Chapter II, Subchapter D, of Title 10 of the Code of Regulations as set forth below:

PART 430—ENERGY CONSERVATION PROGRAM FOR CONSUMER PRODUCTS

1. The authority citation for part 430 continues to read as follows:

Authority: 42 U.S.C. 6291-6309; 28 U.S.C. 2461 note.

2. Section 430.2 is amended by:

a. Adding in alphabetical order definitions of “3-way incandescent lamp,” “active mode,” “appliance lamp,” “ballast,” “BPAR incandescent reflector lamp,” “BR30,” “BR40,” “candelabra base incandescent lamp,” “class A external power supply,” “detachable battery,” “electronic ballast,” “ER30,” “ER40,” “general lighting application,” “general service lamp,” “import,” “intermediate base incandescent lamp,” “light-emitting diode or LED”, “manufacture,” “modified spectrum,” “off mode,” “organic light-emitting diode or OLED,” “R20 incandescent reflector lamp,” “rough service lamp,” “shatter-resistant lamp, shatter-proof lamp, or shatter-protected lamp,” “specialty application mercury vapor lamp ballast,” “standby mode,” and “vibration service lamp.”

b. Revising the definition of “BR incandescent reflector lamp,” “colored incandescent lamp,” “ER incandescent reflector lamp,” “general service fluorescent lamp,” “general service incandescent lamp,” and “incandescent reflector lamp.”

The revisions and additions read as follows:

§ 430.2 Definitions.

* * * * *

3-Way incandescent lamp means an incandescent lamp that—

(1) Employs two filaments, operated separately and in combination, to provide three light levels; and

(2) Is designated on the lamp packaging and marketing materials as being a 3-way incandescent lamp.

* * * * *

Active mode means the condition in which an energy-using product—

(1) Is connected to a main power source;

(2) Has been activated; and

(3) Provides one or more main functions.

* * * * *

Appliance lamp means any lamp that—

(1) Is specifically designed to operate in a household appliance, has a maximum wattage of 40 watts, is sold at retail (including an oven lamp, refrigerator lamp, and vacuum cleaner lamp); and

(2) Is designated and marketed for the intended application, with

(i) The designation on the lamp packaging; and

(ii) Marketing materials that identify the lamp as being for appliance use.

* * * * *

Ballast means a device used with an electric discharge lamp to obtain necessary circuit conditions (voltage, current, and waveform) for starting and operating.

* * * * *

BPAR incandescent reflector lamp means a reflector lamp as shown in figure C78.21-278 on page 32 of ANSI C78.21-2003 (incorporated by reference; see § 430.3).

BR30 means a BR incandescent reflector lamp with a diameter of 30/8ths of an inch.

BR40 means a BR incandescent reflector lamp with a diameter of 40/8ths of an inch.

BR incandescent reflector lamp means a reflector lamp that has—

(1) A bulged section below the major diameter of the bulb and above the approximate baseline of the bulb, as shown in figure 1 (RB) on page 7 of ANSI C79.1-1994, (incorporated by reference, see § 430.3); and

(2) A finished size and shape shown in ANSI C78.21-1989 (incorporated by reference; see § 430.3), including the referenced reflective characteristics in part 7 of ANSI C78.21-1989.

* * * * *

Candelabra base incandescent lamp means a lamp that uses a candelabra screw base as described in ANSI C81.61, Specifications for Electric Bases, common designations E11 and E12 (incorporated by reference; see § 430.3).

* * * * *

Class A external power supply—

(1) Means a device that—

(i) Is designed to convert line voltage AC input into lower voltage AC or DC output;

(ii) Is able to convert to only one AC or DC output voltage at a time;

(iii) Is sold with, or intended to be used with, a separate end-use product that constitutes the primary load;

(iv) Is contained in a separate physical enclosure from the end-use product;

(v) Is connected to the end-use product via a removable or hard-wired male/female electrical connection, cable, cord, or other wiring; and

(vi) Has nameplate output power that is less than or equal to 250 watts;

(2) But, does not include any device that—

(i) Requires Federal Food and Drug Administration listing and approval as a medical device in accordance with section 513 of the Federal Food, Drug, and Cosmetic Act (21 U.S.C. 360(c)); or

(ii) Powers the charger of a detachable battery pack or charges the battery of a product that is fully or primarily motor operated.

* * * * *

Colored incandescent lamp means an incandescent lamp designated and marketed as a colored lamp that has—

(1) A color rendering index of less than 50, as determined according to the test method given in CIE 13.3 (incorporated by reference; see § 430.3); or

(2) A correlated color temperature of less than 2,500K, or greater than 4,600K, where correlated temperature is computed according to the “Computation of Correlated Color Temperature and Distribution Temperature,” Journal of the Optical Society of America, (incorporated by reference; see § 430.3).

* * * * *

Detachable battery means a battery that is—

(1) Contained in a separate enclosure from the product; and

(2) Intended to be removed or disconnected from the product for recharging.

* * * * *

Electronic ballast means a device that uses semiconductors as the primary means to control lamp starting and operation.

* * * * *

ER incandescent reflector lamp means a reflector lamp that has—

(1) An elliptical section below the major diameter of the bulb and above the approximate baseline of the bulb, as shown in figure 1 (RE) on page 7 of ANSI C79.1-1994, (incorporated by reference; see § 430.3); and

(2) A finished size and shape shown in ANSI C78.21-1989, (incorporated by reference; see § 430.3).

ER30 means an ER incandescent reflector lamp with a diameter of 30/8ths of an inch.

ER40 means an ER incandescent reflector lamp with a diameter of 40/8ths of an inch.

* * * * *

General lighting application means lighting that provides an interior or exterior area with overall illumination.

General service fluorescent lamp means any fluorescent lamp which can be used to satisfy the majority of fluorescent lighting applications, but does not include any lamp designed and marketed for the following nongeneral application:

(1) Fluorescent lamps designed to promote plant growth;

(2) Fluorescent lamps specifically designed for cold temperature applications;

(3) Colored fluorescent lamps;

(4) Impact-resistant fluorescent lamps;

(5) Reflectorized or aperture lamps;

(6) Fluorescent lamps designed for use in reprographic equipment;

(7) Lamps primarily designed to produce radiation in the ultra-violet region of the spectrum; and

(8) Lamps with a Color Rendering Index of 87 or greater.

General service incandescent lamp means a standard incandescent or halogen type lamp that is intended for general service applications; has a medium screw base; has a lumen range of not less than 310 lumens and not more than 2,600 lumens; and is capable of being operated at a voltage range at least partially within 110 and 130 volts; however this definition does not apply to the following incandescent lamps—

(1) An appliance lamp;

(2) A black light lamp;

(3) A bug lamp;

(4) A colored lamp;

(5) An infrared lamp;

(6) A left-hand thread lamp;

(7) A marine lamp;

(8) A marine signal service lamp;

(9) A mine service lamp;

(10) A plant light lamp;

(11) A reflector lamp;

(12) A rough service lamp;

(13) A shatter-resistant lamp (including a shatter-proof lamp and a shatter-protected lamp);

(14) A sign service lamp;

(15) A silver bowl lamp;

(16) A showcase lamp;

(17) A 3-way incandescent lamp;

(18) A traffic signal lamp;

(19) A vibration service lamp;

(20) A G shape lamp (as defined in ANSI C78.20) (incorporated by reference; see § 430.3) and ANSI C79.1-2002 (incorporated by reference; see § 430.3) with a diameter of 5 inches or more;

(21) A T shape lamp (as defined in ANSI C78.20) (incorporated by reference; see § 430.3) and ANSI C79.1-2002 (incorporated by reference; see § 430.3) and that uses not more than 40 watts or has a length of more than 10 inches; and

(22) A B, BA, CA, F, G16-1/2, G-25, G30, S, or M-14 lamp (as defined in ANSI C79.1-2002) (incorporated by reference; see § 430.3) and ANSI C78.20 (incorporated by reference; see § 430.3) of 40 watts or less.

General service lamp includes general service incandescent lamps, compact fluorescent lamps, general service light-emitting diode lamps, organic light-emitting diode lamps, and any other lamps that the Secretary determines are used to satisfy lighting applications traditionally served by general service incandescent lamps; however, this definition does not apply to any lighting application or bulb shape excluded from the “general service incandescent lamp” definition, or any general service fluorescent lamp or incandescent reflector lamp.

* * * * *

Import means to import into the customs territory of the United States.

* * * * *

Incandescent reflector lamp (commonly referred to as a reflector lamp) means any lamp in which light is produced by a filament heated to incandescence by an electric current, which: is not colored or designed for rough or vibration service applications that contains an inner reflective coating on the outer bulb to direct the light; has an R, PAR, ER, BR, BPAR, or similar bulb shapes with an E26 medium screw base; has a rated voltage or voltage range that lies at least partially in the range of 115 and 130 volts; has a diameter that exceeds 2.25 inches; and has a rated wattage that is 40 watts or higher.

Intermediate base incandescent lamp means a lamp that uses an intermediate screw base as described in ANSI C81.61, Specifications for Electric Bases, common designation E17 (incorporated by reference; see § 430.3).

* * * * *

Light-emitting diode or LED means a p-n junction solid state device of which the radiated output, either in the infrared region, the visible region, or the ultraviolet region, is a function of the physical construction, material used, and exciting current of the device.

* * * * *

Manufacture means to manufacture, produce, assemble, or import.

* * * * *

Modified spectrum means, with respect to an incandescent lamp, an incandescent lamp that—

(1) Is not a colored incandescent lamp; and

(2) When operated at the rated voltage and wattage of the incandescent lamp—

(A) Has a color point with (x,y) chromaticity coordinates on the C.I.E. 1931 chromaticity diagram, figure 2, page 3 of IESNA LM-16 (incorporated by reference; see § 430.3) that lies below the black-body locus; and

(B) Has a color point with (x,y) chromaticity coordinates on the C.I.E. 1931 chromaticity diagram, figure 2, page 3 of IESNA LM-16 (incorporated by reference; see § 430.3) that lies at least 4 MacAdam steps, as referenced in IESNA LM-16, distant from the color point of a clear lamp with the same filament and bulb shape, operated at the same rated voltage and wattage.

* * * * *

Off mode means the condition in which an energy using product—

(1) Is connected to a main power source; and

(2) Is not providing any stand-by or active mode function.

* * * * *

Organic light-emitting diode or OLED means a thin-film light-emitting device that typically consists of a series of organic layers between 2 electrical contacts (electrodes).

* * * * *

R20 incandescent reflector lamp means a reflector lamp that has a face diameter of approximately 2.5 inches, as shown in figure 1(R) on page 7 of ANSI C79.1-1994 (incorporated by reference; see § 430.3).

* * * * *

Rough service lamp means a lamp that—

(1) Has a minimum of 5 supports with filament configurations that are C-7A, C-11, C-17, and C-22 as listed in Figure 6-12 of the IESNA Lighting Handbook (incorporated by reference; see § 430.3), or similar configurations where lead wires are not counted as supports; and

(2) Is designated and marketed specifically for `rough service' applications, with

(i) The designation appearing on the lamp packaging; and

(ii) Marketing materials that identify the lamp as being for rough service.

* * * * *

Shatter-resistant lamp, shatter-proof lamp, or shatter-protected lamp means a lamp that—

(1) Has a coating or equivalent technology that is compliant with NSF/ANSI 51 (incorporated by reference; see § 430.3) and is designed to contain the glass if the glass envelope of the lamp is broken; and

(2) Is designated and marketed for the intended application, with

(i) The designation on the lamp packaging; and

(ii) Marketing materials that identify the lamp as being shatter-resistant, shatter-proof, or shatter-protected.

* * * * *

Specialty application mercury vapor lamp ballast means a mercury vapor lamp ballast that—

(1) Is designed and marketed for operation of mercury vapor lamps used in quality inspection, industrial processing, or scientific use, including fluorescent microscopy and ultraviolet curing; and

(2) In the case of a specialty application mercury vapor lamp ballast, the label of which—

(i) Provides that the specialty application mercury vapor lamp ballast is `For specialty applications only, not for general illumination'; and

(ii) Specifies the specific applications for which the ballast is designed.

Standby mode means the condition in which an energy-using product—

(1) Is connected to a main power source; and

(2) Offers one or more of the following user-oriented or protective functions:

(i) To facilitate the activation or deactivation of other functions (including active mode) by remote switch (including remote control), internal sensor, or timer; or

(ii) Continuous functions, including information or status displays (including clocks) or sensor-based functions.

* * * * *

Vibration ser vice lamp means a lamp that—

(1) Has filament configurations that are C-5, C-7A, or C-9, as listed in Figure 6-12 of the IESNA Lighting Handbook (incorporated by reference; see § 430.3) or similar configurations;

(2) Has a maximum wattage of 60 watts;

(3) Is sold at retail in packages of 2 lamps or less; and

(4) Is designated and marketed specifically for vibration service or vibration-resistant applications, with—

(i) The designation appearing on the lamp packaging; and

(ii) Marketing materials that identify the lamp as being vibration service only.

* * * * *

3. A new § 430.3 is added to read as follows:

§ 430.3 Materials incorporated by reference.

(a) General. We incorporate by reference the following standards into Part 430. The material listed has been approved for incorporation by reference by the Director of the Federal Register in accordance with 5 U.S.C. 552(a) and 1 CFR part 51. Any subsequent amendment to a standard by the standard-setting organization will not affect the DOE regulations unless and until amended by DOE. Material is incorporated as it exists on the date of the approval and a notice of any change in the material will be published in the Federal Register. All approved material is available for inspection at the National Archives and Records Administration (NARA). For information on the availability of this material at NARA, call 202-741-6030, or go to: http://www.archives.gov/federal_register/code_of_federal_regulations/ibr_locations.html. Also, this material is available for inspection at U.S. Department of Energy, Office of Energy Efficiency and Renewable Energy, Building Technologies Program, 6th Floor, 950 L'Enfant Plaza, SW., Washington, DC 20024, (202) 586-2945, or go to: http://www1.eere.energy.gov/buildings/appliance_standards/. Standards can be obtained from the sources below.

(b) AHRI. Air-Conditioning, Heating, and Refrigeration Institute, 2111 Wilson Blvd, Suite 500, Arlington, VA 22201, 703-524-8800, or go to http://www.ahrinet.org.

(1) ARI 210/240-2006, Unitary Air-Conditioning and Air-Source Heat Pump Equipment, approved March 26, 1998, IBR approved for Appendix M to Subpart B.

(2) [Reserved]

(c) ANSI. American National Standards Institute, 25 W. 43rd Street, 4th Floor, New York, NY 10036, 212-642-4900, or go to http://www.ansi.org.

(1) ANSI C78.1-1991, for Fluorescent Lamps—Rapid-Start Types—Dimensional and Electrical Characteristics, approved July 15, 1991, IBR approved for § 430.2 and Appendix R to Subpart B.

(2) ANSI C78.2-1991, for Fluorescent Lamps—Preheat-Start Types—Dimensional and Electrical Characteristics of Fluorescent Lamps, approved July 15, 1991, IBR approved for § 430.2 and Appendix R to Subpart B.

(3) ANSI C78.3-1991, for Fluorescent Lamps—Instant-Start and Cold-Cathode Types—Dimensional and Electrical Characteristics, approved July 15, 1991, IBR approved for § 430.2 and Appendix R to Subpart B.

(4) ANSI C78.20-2003, Revision of ANSI C78.20-1995 (“ANSI C78.20”), American National Standard for electric lamps—A, G, PS, and Similar Shapes with E26 Medium Screw Bases, approved October 30, 2003; IBR approved for § 430.2.

(5) ANSI C78.21-1989, American National Standard for Electric Lamps—PAR and R Shapes, approved March 3, 1989, IBR approved for § 430.2.

(6) ANSI C78.21-2003, Revision of ANSI C78.21-1995 with all supplements, American National Standard for Electric Lamps—PAR and R Shapes, approved October 30, 2003, IBR approved for § 430.2.

(7) ANSI C78.375-1991, for Fluorescent Lamps—Guide for Electrical Measurements, approved July 15, 1991, IBR approved for § 430.2 and Appendix R to Subpart B.

(8) ANSI C79.1-1994, American National Standard for Nomenclature for Glass Bulbs—Intended for Use with Electric Lamps, approved March 24, 1994, IBR approved for § 430.2.

(9) ANSI C79.1-2002, American National Standard for Electric Lamps—Nomenclature for Glass Bulbs Intended for Use with Electric Lamps, approved September 16, 2002, IBR approved for § 430.2.

(10) ANSI_ANSLG_ C81.61-2006, Revision of ANSI C81.61-2005, (“ANSI C81.61”), American National Standard for electrical lamp bases—Specifications for Bases (Caps) for Electric Lamps, approved August 25, 2006, IBR approved for § 430.2.

(11) ANSI C82.3-1983, for Reference Ballasts for Fluorescent Lamps, approved May 16, 1983, IBR approved for Appendix R to Subpart B.

(12) ANSI Z21.56-1994, Gas-Fired Pool Heaters, section 2.9, approved December 5, 1994, IBR approved for Appendix P to Subpart B.

(d) ASHRAE. American Society of Heating, Refrigerating and Air-Conditioning Engineers, Inc., Publication Sales, 1791 Tullie Circle, NE., Atlanta, GA 30329, 800-527-4723 or 404-636-8400, or go to http://www.ashrae.org.

(1) ASHRAE 23-2005, Methods of Testing for Rating Positive Displacement Refrigerant Compressors and Condensing Units, approved February 10, 2005, IBR approved for Appendix M to Subpart B.

(2) ASHRAE 37-2005, Methods of Testing for Rating Unitary Air-Conditioning and Heat Pump Equipment, approved March 11, 2005, IBR approved for Appendix M to Subpart B.

(3) ASHRAE 41.1-1986 (Reaffirmed 2001), Standard Method for Temperature Measurement, approved February 18, 1987, IBR approved for Appendix E and Appendix M to Subpart B.

(4) ASHRAE 41.2-1987 (Reaffirmed 1992), Standard Methods for Laboratory Airflow Measurement, approved October 1, 1987, IBR approved for Appendix M to Subpart B.

(5) ASHRAE 41.6-1994 (Reaffirmed 2001), Standard Method for Measurement of Moist Air Properties, approved August 30, 1994, IBR approved for Appendix M to Subpart B.

(6) ASHRAE 41.9-2000, Calorimeter Test Methods for Mass Flow Measurements of Volatile Refrigerants, approved October 6, 2000, IBR approved for Appendix M to Subpart B.

(7) ASHRAE/AMCA 51-1999/210-1999, Laboratory Methods of Testing Fans for Aerodynamic Performance Rating, approved December 2, 1999, IBR approved for Appendix M to Subpart B.

(8) ASHRAE 103-1993, Methods of Testing for Annual Fuel Utilization Efficiency of Residential Central Furnaces and Boilers, (with Errata of October 24, 1996) except for sections 3.0, 7.2.2.5, 8.6.1.1, 9.1.2.2, 9.5.1.1, 9.5.1.2.1, 9.5.1.2.2, 9.5.2.1, 9.7.1, 10.0, 11.2.12, 11.3.12, 11.4.12, 11.5.12 and appendices B and C, approved October 4, 1993, IBR approved for § 430.23 and Appendix N to Subpart B.

(9) ASHRAE 116-1995 (RA 2005), Methods of Testing for Rating Seasonal Efficiency of Unitary Air Conditioners and Heat Pumps, approved July 24, 1995, IBR approved for Appendix M to Subpart B.

(e) ASME. American Society of Mechanical Engineers, Service Center, 22 Law Drive, P.O. Box 2900, Fairfield, NJ 07007, 973-882-1170, or go to http://www.asme.org.

(1) ASME/ANSI A112.18.1M-1996, Plumbing Fixture Fittings, approved April 4, 1996, IBR approved for Appendix S to Subpart B.

(2) ASME/ANSI A112.19.6-1995, Hydraulic Requirements for Water Closets and Urinals, approved April 6, 1995, IBR approved for § 430.2 and Appendix T to Subpart B.

(f) AHAM. Association of Home Appliance Manufacturers, 1111 19th Street, NW., Suite 402, Washington, DC 20036, 202-872-5955, or go to http://www.aham.org.

(1) ANSI/AHAM DW-1-1992, American National Standard, Household Electric Dishwashers, approved February 6, 1992, IBR approved for Appendix C to Subpart B and § 430.32.

(2) [Reserved]

(g) CEC. California Energy Commission, 1516 Ninth Street, MS-25, Sacramento, CA 95814, 916-654-4091, or go to http://www.energy.ca.gov.

(1) CEC Test Method for Calculating the Energy Efficiency of Single-Voltage External Ac-Dc and Ac-Ac Power Supplies, August 11, 2004, IBR approved for Appendix Z to Subpart B.

(2) [Reserved]

(h) CIE. Commission Internationale de l'Eclairage (CIE), Central Bureau, Kegelgasse 27, A-1030, Vienna, Austria, 011+43 1 714 31 87 0, or go to http://www.cie.co.at.

(1) CIE Publication No. 13.2-1974, corrected reprint 1993, Method of Measuring and Specifying Color Rendering Properties of Light Sources, approved March 27, 1975, ISBN 3 900 734 39 9, IBR approved for § 430.2 and Appendix R to Subpart B.

(2) CIE 13.3-1995 (“CIE 13.3”), Commission Internationale de l'Eclairage International Commission on Illumination Internationale Beleuchtungskommission Technical Report: Method of Measuring and Specifying Colour Rendering Properties of Light Sources, 1995, ISBN 3 900 734 57 7, IBR approved for § 430.2.

(2) [Reserved].

(i) Environmental Protection Agency (EPA), ENERGY STAR documents published by the Environmental Protection Agency are available online at http://www.energystar.gov or by contacting the Energy Star hotline at 1-888-782-7937.

(1) ENERGY STAR Testing Facility Guidance Manual: Building a Testing Facility and Performing the Solid State Test Method for ENERGY STAR Qualified Ceiling Fans, Version 1.1, approved December 9, 2002, IBR approved for Appendix U to Subpart B.

(2) ENERGY STAR Program Requirements for Residential Light Fixtures, Version 4.0, approved January 10, 2005, IBR approved for Appendix V to Subpart B.

(3) ENERGY STAR Program Requirements for Dehumidifiers, approved January 1, 2001, IBR approved for Appendix X to Subpart B.

(4) Energy Star Program Requirements for Single Voltage External Ac-Dc and Ac-Ac Power Supplies, Eligibility Criteria (Version 2.0), effective date for EPS Manufacturers November 1, 2008, IBR approved for Subpart C, § 430.32.

(5) Test Methodology for Determining the Energy Performance of Battery Charging Systems, approved December 2005, IBR approved for Appendix Y to Subpart B.

(j) IESNA. Illuminating Engineering Society of North America, 120 Wall Street, Floor 17, New York, NY 10005-4001, 212-248-5000, or go to http://www.iesna.org.

(1) The IESNA Lighting Handbook, Reference & Application, (“The IESNA Lighting Handbook”), 9th ed., Chapter 6, “Light Sources,” July 2000, IBR approved for § 430.2.

(2) IES LM-9-88, IES Approved Method for the Electrical and Photometric Measurements of Fluorescent Lamps, approved December 7, 1988, IBR approved for Appendix R to Subpart B.

(3) IESNA LM-16-1993 (“IESNA LM-16”), IESNA Practical Guide to Colorimetry of Light Sources, December 1993, IBR approved for § 430.2 and Appendix R to Subpart B.

(4) IES LM-20-1994, IESNA Approved Method for Photometric Testing of Reflector-Type Lamps, approved December 3, 1994, IBR approved for Appendix R to Subpart B.

(5) IES LM-45-91, IES Approved Method for Electrical and Photometric Measurements of General Service Incandescent Filament Lamps, approved December 8, 1990, IBR approved for Appendix R to Subpart B.

(6) IES LM-58-1994, IESNA Guide to Spectroradiometric Measurements, approved December 3, 1994, IBR approved for Appendix R to Subpart B.

(7) IES LM-66-1991, IES Approved Method for the Electrical and Photometric Measurements of Single-Ended Compact Fluorescent Lamps, approved June 1991, IBR approved for Appendix R to Subpart B.

(k) IEC. International Electrotechnical Commission, available from the American National Standards Institute, 11 W. 42nd Street, New York, NY 10036, 212-642-4936 or go to http://www.iec.ch.

(1) IEC 705, Methods for Measuring the Performance of Microwave Ovens for Household and Similar Purposes, Section 4, Methods of Measurement, Paragraph 13, Electrical Power Input Measurement, and Paragraph 14, Efficiency, approved December 14, 1988, IBR approved for Appendix I to Subpart B.

(2) IEC 705, Amendment 2, Methods for Measuring the Performance of Microwave Ovens for Household and Similar Purposes, Section 4, Methods of Measurement, Paragraph 12, Microwave Power Output Measurement, approved September 21, 1993, IBR approved for Appendix I to Subpart B to Subpart B.

(l) NSF International. NSF International, P.O. Box 130140, 789 North Dixboro Road, Ann Arbor, MI 48113-0140, 1-800-673-6275, or go to http://www.nsf.org.

(1) NSF/ANSI 51-2007 (“NSF/ANSI 51”), Food equipment materials, revised and adopted April 2007, IBR approved for § 430.2.

(2) [Reserved].

(m) Optical Society of America. Optical Society of America, 2010 Massachusetts Ave., NW., Washington, DC 20036-1012, 202-223-8130, or go to http://www.opticsinfobase.org;

(1) “Computation of Correlated Color Temperature and Distribution Temperature,” A.R. Robertson, Journal of the Optical Society of America, Volume 58, Number 11, November 1968, pages 1528-1535, IBR approved for § 430.2.

(2) [Reserved].

(n) U.S. Department of Energy, Office of Energy Efficiency and Renewable Energy, Resource Room of the Building Technologies Program, 950 L'Enfant Plaza, SW., 6th Floor, Washington, DC 20024, 202-586-2945, or go to http://www.energystar.gov.

(1) ENERGY STAR Program Requirements for [Compact Fluorescent Lamps] CFLs, Version 3.0, approved October 30, 2003, IBR approved for Appendix V to Subpart B.

(2) ENERGY STAR Program Requirements for [Compact Fluorescent Lamps] CFLs, approved August 9, 2001, IBR approved for Appendix W to Subpart B.

4. A new § 430.4 is added to read as follows:

§ 430.4 Sources for information and guidance.

(a) General. The standards listed in this paragraph are referred to in the DOE test procedures and elsewhere in this part but are not incorporated by reference. These sources are given here for information and guidance.

(b) IESNA. Illuminating Engineering Society of North America, 120 Wall Street, Floor 17, New York, NY 10005-4001, 212-248-5000, or go to http://www.iesna.org.

(1) Illuminating Engineering Society of North America Lighting Handbook, 8th Edition, 1993.

(2) [Reserved].

(c) IEEE. Institute of Electrical and Electronics Engineers, Inc., 3 Park Avenue, 17th Floor, New York, NY, 10016-5997, 212-419-7900, or go to http://www.ieee.org.

(1) IEEE 1515-2000, IEEE Recommended Practice for Electronic Power Subsystems: Parameter Definitions, Test Conditions, and Test Methods, March 30, 2000.

(2) IEEE 100, Authoritative Dictionary of IEEE Standards Terms, 7th Edition, January 1, 2006.

(d) IEC. International Electrotechnical Commission, available from the American National Standards Institute, 11 W. 42nd Street, New York, NY 10036, 212-642-4936, or go to http://www.iec.ch.

(1) IEC 62301, Household electrical appliances—Measurement of standby power, First Edition, June 13, 2005.

(2) IEC 60050, International Electrotechnical Vocabulary.

(e) National Voluntary Laboratory Accreditation Program, Standards Services Division, NIST, 100 Bureau Drive, Stop 2140, Gaithersburg, MD 20899-2140, 301-975-4016, or go to http://ts.nist.gov/standards/accreditation.

(1) National Voluntary Laboratory Accreditation Program Handbook 150-01, Energy Efficient Lighting Products, Lamps and Luminaires, August 1993.

(2) [Reserved].

§ 430.22 [Removed]

5. Section 430.22 is removed.

6. Appendix Z to subpart B of part 430 is amended by revising paragraphs 2(a) and 2(c) to read as follows:

Appendix Z to Subpart B of Part 430—Uniform Test Method for Measuring the Energy Consumption of External Power Supplies

* * * * *

2. * * *

a. Active mode means the mode of operation when an external power supply is connected to the main electricity supply and the output is connected to a load.

* * *

c. No-load mode means the mode of operation when an external power supply is connected to the main electricity supply and the output is not connected to a load.

* * * * *

4. Section 430.32 of subpart C is amended by:

a. Adding after the paragraph (f) heading the designation “(1)” before the existing (f) introductory text;

b. Removing the designations “(1)” and “(2)” in the table in paragraph (f) and adding in their place “(i)” and “(ii)”, respectively;

c. Adding a new paragraph (f)(2);

d. Adding a new paragraph (g)(4);

e. Revising the heading to paragraph (m)(1) introductory text;

f. Adding a new paragraph (n)(3);

g. Revising paragraph (s)(1)(iii)(B);

h. Revising paragraph (s)(3)(ii);

i. Adding after the paragraph (v) heading the designation “(1)” before the existing (v) introductory text;

j. Adding a new paragraph (v)(2); and

k. Adding new paragraphs (w) and (x).

The revisions and additions read as follows:

§ 430.32 Energy and water conservation standards and their effective dates.

* * * * *

(f) * * *

(1) * * *

(2) All dishwashers manufactured on or after January 1, 2010, shall meet the following standard—

(i) Standard size dishwashers shall not exceed 355 kwh/year and 6.5 gallons per cycle.

(ii) Compact size dishwashers shall not exceed 260 kwh/year and 4.5 gallons per cycle.

(g) * * *

(4) All top-loading or front-loading standard-size residential clothes washers manufactured on or after January 1, 2011, shall meet the following standard—

(i) A Modified Energy Factor of at least 1.26; and

(ii) A water factor of not more than 9.5.

* * * * *

(m)(1) Fluorescent lamp ballasts (other than specialty application mercury vapor lamp ballasts). * * *

* * * * *

(n) * * *

(3)(i) The standards specified in this section shall not apply to the following types of incandescent reflector lamps:

(A) Lamps rated at 50 watts or less that are ER30, BR30, BR40, or ER40 lamps;

(B) Lamps rated at 65 watts that are BR30, BR40, or ER40 lamps; and

(C) R20 incandescent reflector lamps rated 45 watts or less.

(ii)(A) The standards specified in this section shall apply with respect to ER incandescent reflector lamps, BR incandescent reflector lamps, BPAR incandescent reflector lamps, and similar bulb shapes on and after January 1, 2008.

(B) The standards specified in this section shall apply with respect to incandescent reflector lamps with a diameter of more than 2.25 inches, but not more than 2.75 inches, on and after June 15, 2008.

* * * * *

(s) * * *

(1) * * *

(iii) * * *

(B) Fans sold for outdoor applications; and

* * * * *

(3) * * *

(ii) Shall be packaged to include the lamps described in paragraph (s)(3)(i) of this section with the ceiling fan light kits to fill all sockets.

* * * * *

(v) * * *

(1) * * *

(2) Dehumidifiers manufactured on or after October 1, 2012, shall have an energy factor that meets or exceeds the following values:

Product capacity (pints/day) | Minimum energy factor (liters/kWh)
Up to 35.00 | 1.35
35.01-45.00 | 1.50
45.01-54.00 | 1.60
54.01-75.00 | 1.70
75.00 or more | 2.5

(w) Class A external power supplies.

(1)(i) Except as provided in paragraph (w)(1)(ii) of this section, all class A external power supplies manufactured on or after July 1, 2008, shall meet the following standards:

Active Mode
Nameplate Output | Required efficiency (decimal equivalent of a percentage)
Less than 1 watt | 0.5 times the Nameplate output.
From 1 watt to not more than 51 watts | The sum of 0.09 times the Natural Logarithm of the Nameplate Output and 0.5.
Greater than 51 watts | 0.85.
No-Load Mode
Nameplate output | Maximum consumption
Not more than 250 watts | 0.5 watts.

(ii) A class A external power supply shall not be subject to the standards in paragraph w(1)(i) if the class A external power supply is—

(A) Manufactured during the period beginning on July 1, 2008, and ending on June 30, 2015, and

(B) Made available by the manufacturer as a service part or a spare part for an end-use product—

(1) That constitutes the primary load; and

(2) Was manufactured before July 1, 2008.

(3) The standards described in paragraph (w)(1)(i) shall not constitute an energy conservation standard for the separate end-use product to which the external power supply is connected.

(4) Any class A external power supply manufactured on or after July 1, 2008 shall be clearly and permanently marked in accordance with the External Power Supply International Efficiency Marking Protocol, as referenced in the ‘Energy Star Program Requirements for Single Voltage External Ac-Dc and Ac-Ac Power Supplies,' (incorporated by reference; see § 430.3), published by the Environmental Protection Agency.

(x) General service incandescent lamps, intermediate base incandescent lamps and candelabra base incandescent lamps. (1) The energy conservation standards in this paragraph apply to general service incandescent lamps:

(i) Intended for a general service or general illumination application (whether incandescent or not);

(ii) Has a medium screw base or any other screw base not defined in ANSI C81.61 (incorporated by reference; see § 430.3); and

(iii) Is capable of being operated at a voltage at least partially within the range of 110 to 130 volts.

(A) General service incandescent lamps manufactured after the effective dates specified in the tables below, except as described in paragraph (x)(1)(B) of this section, shall have a color rendering index greater than or equal to 80 and shall have rated wattage no greater than and rated lifetime no less than the values shown in the table below:

General Service Incandescent Lamps
Rated lumen ranges | Maximum rate wattage | Minimum rate life-time | Effective date
1490-2600 | 72 | 1,000 hrs | 1/1/2012
1050-1489 | 53 | 1,000 hrs | 1/1/2013
750-1049 | 43 | 1,000 hrs | 1/1/2014
310-749 | 29 | 1,000 hrs | 1/1/2014

(B) Modified spectrum general service incandescent lamps manufactured after the effective dates specified shall have a color rendering index greater than or equal to 75 and shall have a rated wattage no greater than and rated lifetime no less than the values shown in the table below:

Modified Spectrum General Service Incandescent Lamps
Rated lumen ranges | Maximum rate wattage | Minimum rate life-time | Effective date
1118-1950 | 72 | 1,000 hrs | 1/1/2012
788-1117 | 53 | 1,000 hrs | 1/1/2013
563-787 | 43 | 1,000 hrs | 1/1/2014
232-562 | 29 | 1,000 hrs | 1/1/2014

(2) Each candelabra base incandescent lamp shall not exceed 60 rated watts.

(3) Each intermediate base incandescent lamp shall not exceed 40 rated watts.

7. Section 430.33 of subpart C is amended by:

a. Removing the text “sections 327(b) and (c) of the Act” and adding in its place “sections 325(i)(6)(A)(vi), 327(b) and (c) of the Act”;

b. Adding the paragraph designation “(a)” before the existing text; and

c. Adding a new paragraph (b) to read as follows:

§ 430.33 Preemption of State regulations.

* * * * *

(b) No State regulation, or revision thereof, concerning the energy efficiency, energy use, or water use of the covered product shall be effective with respect to such covered product, unless the State regulation or revision in the case of any portion of any regulation that establishes requirements for general service incandescent lamps, intermediate base incandescent lamps, or candelabra base lamps, was enacted or adopted by the State of California or Nevada before December 4, 2007, except that—

(1) The regulation adopted by the California Energy Commission with an effective date of January 1, 2008, shall only be effective until the effective date of the Federal standard for the applicable lamp category under paragraphs (A), (B), and (C) of section 325(i)(1) of EPCA;

(2) The States of California and Nevada may, at any time, modify or adopt a State standard for general service lamps to conform with Federal standards with effective dates no earlier than 12 months prior to the Federal effective dates prescribed under paragraphs (A), (B), and (C) of section 325(i)(1) of EPCA, at which time any prior regulations adopted by the State of California or Nevada shall no longer be effective; and

(3) All other States may, at any time, modify or adopt a State standard for general service lamps to conform with Federal standards and effective dates.

8. Add a new § 430.35 to subpart C to read as follows:

§ 430.35 Petitions with respect to general service lamps.

(a) Any person may petition the Secretary for an exemption for a type of general service lamp from the requirements of this subpart. The Secretary may grant an exemption only to the extent that the Secretary finds, after a hearing and opportunity for public comment, that it is not technically feasible to serve a specialized lighting application (such as a military, medical, public safety or certified historic lighting application) using a lamp that meets the requirements of this subpart. To grant an exemption for a product under this paragraph, the Secretary shall include, as an additional criterion, that the exempted product is unlikely to be used in a general service lighting application.

(b) Any person may petition the Secretary to establish standards for lamp shapes or bases that are excluded from the definition of general service lamps. The petition shall include evidence that the availability or sales of exempted lamps have increased significantly since December 19, 2007. The Secretary shall grant a petition if the Secretary finds that:

(1) The petition presents evidence that demonstrates that commercial availability or sales of exempted incandescent lamp types have increased significantly since December 19, 2007 and are being widely used in general lighting applications; and

(2) Significant energy savings could be achieved by covering exempted products, as determined by the Secretary based on sales data provided to the Secretary from manufacturers and importers.

9. Amend § 430.61 by revising paragraphs (a)(3) and (4) and by adding new paragraphs (a)(5) and (6) to read as follows:

§ 430.61 Prohibited acts.

(a) * * *

(3) Failure of a manufacturer to permit a representative designated by the Secretary to observe any testing required by the Act and this rule and inspect the results of such testing;

(4) Distribution in commerce by a manufacturer or private labeler of any new covered product which is not in compliance with an applicable energy efficiency standard or water conservation standard (in the case of faucets, showerheads, water closets, and urinals) prescribed under the Act and this rule; or

(5) For any manufacturer, distributor, retailer, or private labeler to distribute in commerce an adapter that—

(i) Is designed to allow an incandescent lamp that does not have a medium screw base to be installed into a fixture or lamp holder with a medium screw base socket; and

(ii) Is capable of being operated at a voltage range at least partially within 110 and 130 volts.

(6) For any manufacturer or private labeler to knowingly sell a product to a distributor, contractor, or dealer with knowledge that the entity routinely violates any regional standard applicable to the product.

PART 431—ENERGY EFFICIENCY PROGRAM FOR CERTAIN COMMERCIAL AND INDUSTRIAL EQUIPMENT

10. The authority citation for part 431 continues to read as follows:

Authority: 42 U.S.C. 6291-6317.

11. Section 431.2 is amended by adding in alphabetical order a definition of “import” and revising the definition of “covered equipment” to read as follows:

§ 431.2 Definitions.

* * * * *

Covered equipment means any electric motor, as defined in § 431.12; commercial heating, ventilating, and air conditioning, and water heating product (HVAC & WH product), as defined in § 431.172; commercial refrigerator, freezer, or refrigerator-freezer, as defined in § 431.62; automatic commercial ice maker, as defined in § 431.132; commercial clothes washer, as defined in § 431.152; distribution transformer, as defined in § 431.192; illuminated exit sign, as defined in § 431.202; traffic signal module or pedestrian module, as defined in § 431.222; unit heater, as defined in § 431.242; commercial prerinse spray valve, as defined in § 431.262; mercury vapor lamp ballast, as defined in § 431.282; refrigerated bottled or canned beverage vending machine, as defined in § 431.292; walk-in cooler and walk-in freezer, as defined in § 431.302; metal halide ballast and metal halide lamp fixture, as defined in § 431.322.

* * * * *

Import means to import into the customs territory of the United States.

* * * * *

12. Section 431.12 of subpart B is amended by removing the definition of “electric motor,” and adding, in alphabetical order definitions of “fire pump motors,” “general purpose electric motor (subtype I),” “general purpose electric motor (subtype II),” and “NEMA design B general purpose electric motor” to read as follows:

§ 431.12 Definitions.

* * * * *

Fire pump motors [Reserved].

General purpose electric motor (subtype I) means any motor which is designed in standard ratings with either:

(1) Standard operating characteristics and standard mechanical construction for use under usual service conditions, such as those specified in NEMA Standards Publication MG1-1993, paragraph 14.02, “Usual Service Conditions,” (incorporated by reference; see § 431.15) and without restriction to a particular application or type of application; or

(2) Standard operating characteristics or standard mechanical construction for use under unusual service conditions, such as those specified in NEMA Standards Publication MG1-1993, paragraph 14.03, “Unusual Service Conditions,” (incorporated by reference; see § 431.15) or for a particular type of application, and which can be used in most general purpose applications.

General purpose electric motor (subtype II) means any motor incorporating the design elements of a general purpose electric motor (subtype I) that are configured as one of the following:

(i) A U-frame motor;

(ii) A design C motor;

(iii) A close-coupled pump motor;

(iv) A footless motor;

(v) A vertical solid shaft normal thrust motor (as tested in a horizontal configuration);

(vi) An 8-pole motor (900 rpm); or

(vii) A poly-phase motor with voltage of not more than 600 volts (other than 230 or 460 volts).

* * * * *

NEMA design B general purpose electric motor [Reserved].

* * * * *

13. Section 431.25 is amended by:

a. Redesignating paragraph (c) as (g).

b. Adding new paragraphs (c), (d), (e), (f), to read as follows:

§ 431.25 Energy conservation standards and effective dates.

* * * * *

(c) Each general purpose electric motor (subtype I), except as provided in paragraph (d) of this section, with a power rating of 1 horsepower or greater, but not greater than 200 horsepower, manufactured (alone or as a component of another piece of equipment) on or after December 19, 2010, shall have a nominal full load efficiency that is not less than the following:

Full-Load Efficiencies of General Purpose Electric Motors
[Subtype I]
Motor horsepower | Nominal full load efficiency: Open motors (number of poles): 6 | Nominal full load efficiency: Open motors (number of poles): 4 | Nominal full load efficiency: Open motors (number of poles): 2 | Nominal full load efficiency: Enclosed motors (number of poles): 6 | Nominal full load efficiency: Enclosed motors (number of poles): 4 | Nominal full load efficiency: Enclosed motors (number of poles): 2
1 | 82.5 | 85.5 | 77.0 | 82.5 | 85.5 | 77.0
1.5 | 86.5 | 86.5 | 84.0 | 87.5 | 86.5 | 84.0
2 | 87.5 | 86.5 | 85.5 | 88.5 | 86.5 | 85.5
3 | 88.5 | 89.5 | 85.5 | 89.5 | 89.5 | 86.5
5 | 89.5 | 89.5 | 86.5 | 89.5 | 89.5 | 88.5
7.5 | 90.2 | 91.0 | 88.5 | 91.0 | 91.7 | 89.5
10 | 91.7 | 91.7 | 89.5 | 91.0 | 91.7 | 90.2
15 | 91.7 | 93.0 | 90.2 | 91.7 | 92.4 | 91.0
20 | 92.4 | 93.0 | 91.0 | 91.7 | 93.0 | 91.0
25 | 93.0 | 93.6 | 91.7 | 93.0 | 93.6 | 91.7
30 | 93.6 | 94.1 | 91.7 | 93.0 | 93.6 | 91.7
40 | 94.1 | 94.1 | 92.4 | 94.1 | 94.1 | 92.4
50 | 94.1 | 94.5 | 93.0 | 94.1 | 94.5 | 93.0
60 | 94.5 | 95.0 | 93.6 | 94.5 | 95.0 | 93.6
75 | 94.5 | 95.0 | 93.6 | 94.5 | 95.4 | 93.6
100 | 95.0 | 95.4 | 93.6 | 95.0 | 95.4 | 94.1
125 | 95.0 | 95.4 | 94.1 | 95.0 | 95.4 | 95.0
150 | 95.4 | 95.8 | 94.1 | 95.8 | 95.8 | 95.0
200 | 95.4 | 95.8 | 95.0 | 95.8 | 96.2 | 95.4

(d) Each fire pump motor manufactured (alone or as a component of another piece of equipment) on or after December 19, 2010, shall have a nominal full load efficiency that is not less than the following:

Full-Load Efficiencies of Fire Pump Motors
Motor horsepower | Nominal full load efficiency: Open motors (number of poles): 8 | Nominal full load efficiency: Open motors (number of poles): 6 | Nominal full load efficiency: Open motors (number of poles): 4 | Nominal full load efficiency: Open motors (number of poles): 2 | Nominal full load efficiency: Enclosed motors (number of poles): 8 | Nominal full load efficiency: Enclosed motors (number of poles): 6 | Nominal full load efficiency: Enclosed motors (number of poles): 4 | Nominal full load efficiency: Enclosed motors (number of poles): 2
1 | 74.0 | 80.0 | 82.5 |  | 74.0 | 80.0 | 82.5 | 75.5
1.5 | 75.5 | 84.0 | 84.0 | 82.5 | 77.0 | 85.5 | 84.0 | 82.5
2 | 85.5 | 85.5 | 84.0 | 84.0 | 82.5 | 86.5 | 84.0 | 84.0
3 | 86.5 | 86.5 | 86.5 | 84.0 | 84.0 | 87.5 | 87.5 | 85.5
5 | 87.5 | 87.5 | 87.5 | 85.5 | 85.5 | 87.5 | 87.5 | 87.5
7.5 | 88.5 | 88.5 | 88.5 | 87.5 | 85.5 | 89.5 | 89.5 | 88.5
10 | 89.5 | 90.2 | 89.5 | 88.5 | 88.5 | 89.5 | 89.5 | 89.5
15 | 89.5 | 90.2 | 91.0 | 89.5 | 88.5 | 90.2 | 91.0 | 90.2
20 | 90.2 | 91.0 | 91.0 | 90.2 | 89.5 | 90.2 | 91.0 | 90.2
25 | 90.2 | 91.7 | 91.7 | 91.0 | 89.5 | 91.7 | 92.4 | 91.0
30 | 91.0 | 92.4 | 92.4 | 91.0 | 91.0 | 91.7 | 92.4 | 91.0
40 | 91.0 | 93.0 | 93.0 | 91.7 | 91.0 | 93.0 | 93.0 | 91.7
50 | 91.7 | 93.0 | 93.0 | 92.4 | 91.7 | 93.0 | 93.0 | 92.4
60 | 92.4 | 93.6 | 93.6 | 93.0 | 91.7 | 93.6 | 93.6 | 93.0
75 | 93.6 | 93.6 | 94.1 | 93.0 | 93.0 | 93.6 | 94.1 | 93.0
100 | 93.6 | 94.1 | 94.1 | 93.0 | 93.0 | 94.1 | 94.5 | 93.6
125 | 93.6 | 94.1 | 94.5 | 93.6 | 93.6 | 94.1 | 94.5 | 94.5
150 | 93.6 | 94.5 | 95.0 | 93.6 | 93.6 | 95.0 | 95.0 | 94.5
200 | 93.6 | 94.5 | 95.0 | 94.5 | 94.1 | 95.0 | 95.0 | 95.0
250 | 94.5 | 95.4 | 95.4 | 94.5 | 94.5 | 95.0 | 95.0 | 95.4
300 |  | 95.4 | 95.4 | 95.0 |  | 95.0 | 95.4 | 95.4
350 |  | 95.4 | 95.4 | 95.0 |  | 95.0 | 95.4 | 95.4
400 |  |  | 95.4 | 95.4 |  |  | 95.4 | 95.4
450 |  |  | 95.8 | 95.8 |  |  | 95.4 | 95.4
500 |  |  | 95.8 | 95.8 |  |  | 95.8 | 95.4

(e) Each general purpose electric motor (subtype II) with a power rating of 1 horsepower or greater, but not greater than 200 horsepower, manufactured (alone or as a component of another piece of equipment) on or after December 19, 2010, shall have a nominal full load efficiency that is not less than the following:

Full-Load Efficiencies of General Purpose Electric Motors
[Subtype II]
Motor horsepower | Nominal full load efficiency: Open motors (number of poles): 8 | Nominal full load efficiency: Open motors (number of poles): 6 | Nominal full load efficiency: Open motors (number of poles): 4 | Nominal full load efficiency: Open motors (number of poles): 2 | Nominal full load efficiency: Enclosed motors (number of poles): 8 | Nominal full load efficiency: Enclosed motors (number of poles): 6 | Nominal full load efficiency: Enclosed motors (number of poles): 4 | Nominal full load efficiency: Enclosed motors (number of poles): 2
1 | 74.0 | 80.0 | 82.5 |  | 74.0 | 80.0 | 82.5 | 75.5
1.5 | 75.5 | 84.0 | 84.0 | 82.5 | 77.0 | 85.5 | 84.0 | 82.5
2 | 85.5 | 85.5 | 84.0 | 84.0 | 82.5 | 86.5 | 84.0 | 84.0
3 | 86.5 | 86.5 | 86.5 | 84.0 | 84.0 | 87.5 | 87.5 | 85.5
5 | 87.5 | 87.5 | 87.5 | 85.5 | 85.5 | 87.5 | 87.5 | 87.5
7.5 | 88.5 | 88.5 | 88.5 | 87.5 | 85.5 | 89.5 | 89.5 | 88.5
10 | 89.5 | 90.2 | 89.5 | 88.5 | 88.5 | 89.5 | 89.5 | 89.5
15 | 89.5 | 90.2 | 91.0 | 89.5 | 88.5 | 90.2 | 91.0 | 90.2
20 | 90.2 | 91.0 | 91.0 | 90.2 | 89.5 | 90.2 | 91.0 | 90.2
25 | 90.2 | 91.7 | 91.7 | 91.0 | 89.5 | 91.7 | 92.4 | 91.0
30 | 91.0 | 92.4 | 92.4 | 91.0 | 91.0 | 91.7 | 92.4 | 91.0
40 | 91.0 | 93.0 | 93.0 | 91.7 | 91.0 | 93.0 | 93.0 | 91.7
50 | 91.7 | 93.0 | 93.0 | 92.4 | 91.7 | 93.0 | 93.0 | 92.4
60 | 92.4 | 93.6 | 93.6 | 93.0 | 91.7 | 93.6 | 93.6 | 93.0
75 | 93.6 | 93.6 | 94.1 | 93.0 | 93.0 | 93.6 | 94.1 | 93.0
100 | 93.6 | 94.1 | 94.1 | 93.0 | 93.0 | 94.1 | 94.5 | 93.6
125 | 93.6 | 94.1 | 94.5 | 93.6 | 93.6 | 94.1 | 94.5 | 94.5
150 | 93.6 | 94.5 | 95.0 | 93.6 | 93.6 | 95.0 | 95.0 | 94.5
200 | 93.6 | 94.5 | 95.0 | 94.5 | 94.1 | 95.0 | 95.0 | 95.0

(f) Each NEMA design B general purpose electric motor with a power rating of more than 200 horsepower, but not greater than 500 horsepower, manufactured (alone or as a component of another piece of equipment), on or after December 19, 2010, shall have nominal full load efficiency that is not less than the following:

Full-Load Efficiencies of NEMA Design B General Purpose Electric Motors Full-Load Efficiencies of General Purpose Electric Motors
Motor horsepower | Nominal full load efficiency: Open motors (number of poles): 8 | Nominal full load efficiency: Open motors (number of poles): 6 | Nominal full load efficiency: Open motors (number of poles): 4 | Nominal full load efficiency: Open motors (number of poles): 2 | Nominal full load efficiency: Enclosed motors (number of poles): 8 | Nominal full load efficiency: Enclosed motors (number of poles): 6 | Nominal full load efficiency: Enclosed motors (number of poles): 4 | Nominal full load efficiency: Enclosed motors (number of poles): 2
250 | 94.5 | 94.5 | 95.4 | 94.5 | 94.5 | 95.0 | 95.0 | 95.4
300 |  | 94.5 | 95.4 | 95.0 |  | 95.0 | 95.4 | 95.4
350 |  | 94.5 | 95.4 | 95.0 |  | 95.0 | 95.4 | 95.4
400 |  |  | 95.4 | 95.4 |  |  | 95.4 | 95.4
450 |  |  | 95.8 | 95.8 |  |  | 95.4 | 95.4
500 |  |  | 95.8 | 95.8 |  |  | 95.8 | 95.4

* * * * *

14. In § 431.92, add the definitions “single package vertical air conditioner,” and “single package vertical heat pump,” in alphabetical order to read as follows:

§ 431.92 Definitions concerning commercial air conditioners and heat pumps.

* * * * *

Single package vertical air conditioner means air-cooled commercial package air conditioning and heating equipment that—

(1) Is factory-assembled as a single package that—

(i) Has major components that are arranged vertically;

(ii) Is an encased combination of cooling and optional heating components; and

(iii) Is intended for exterior mounting on, adjacent interior to, or through an outside wall;

(2) Is powered by a single-or 3-phase current;

(3) May contain 1 or more separate indoor grilles, outdoor louvers, various ventilation options, indoor free air discharges, ductwork, well plenum, or sleeves; and

(4) Has heating components that may include electrical resistance, steam, hot water, or gas, but may not include reverse cycle refrigeration as a heating means.

Single package vertical heat pump means a single package vertical air conditioner that—

(1) Uses reverse cycle refrigeration as its primary heat source; and

(2) May include secondary supplemental heating by means of electrical resistance, steam, hot water, or gas.

* * * * *

15. Section 431.97 is amended by revising paragraph (a) (Tables 1 and 2 to § 431.97 remained unchanged), revising paragraph (b) introductory text, and adding four new entries to the top of the table in paragraph (b) to read as follows:

§ 431.97 Energy efficiency standards and their effective dates.

(a) Each commercial air conditioner or heat pump (including single package vertical air conditioners and single package vertical heat pumps) manufactured on or after January 1, 1994 (except for large commercial package air-conditioning and heating equipment, for which the effective date is January 1, 1995) must meet the applicable minimum energy efficiency standard level(s) set forth in Tables 1 and 2 of this section.

* * * * *

(b) Commercial package air conditioning and heating equipment manufactured on or after January 1, 2010 (except for air-cooled, three-phase small commercial package air-conditioning and heating equipment <65,000 Btu/h for which the effective date is June 16, 2008) must meet the applicable energy efficiency standards set forth in this section.

Product | Cooling capacity (Btu/h) | Category | Efficiency level †
Small commercial package air conditioning and heating equipment, (air-cooled, three-phase) | <65,000 | AC | SEER=13.0.
|  | HP | SEER=13.0.
|  |  | HSPF=7.7.
Single package vertical air conditioners and single package vertical heat pumps, single-phase and three phase | <65,000 | AC | EER=9.0.
|  | HP | EER=9.0.
|  |  | COP=3.0.
Single package vertical air conditioners and single package vertical heat pumps | ≥ 65,000 and <135,000 | AC | EER=8.9.
|  | HP | EER=8.9.
|  |  | COP=3.0.
Single package vertical air conditioners and single package vertical heat pumps | ≥135,000 and <240,000 | AC | EER=8.6.
|  | HP | EER=8.6.
|  |  | COP=2.9.
* * * | * * * | * * * | * * *
† EER at a standard temperature rating of 95 °F dry-bulb and COP at a high temperature rating of 47 °F dry-bulb.

* * * * *

16. Section 431.282 is revised to read as follows:

§ 431.282 Definitions concerning mercury vapor lamp ballasts.

Ballast means a device used with an electric discharge lamp to obtain necessary circuit conditions (voltage, current, and waveform) for starting and operating.

High intensity discharge lamp means an electric-discharge lamp in which—

(1) The light-producing arc is stabilized by the arc tube wall temperature; and

(2) The arc tube wall loading is in excess of 3 Watts/cm², including such lamps that are mercury vapor, metal halide, and high-pressure sodium lamps.

Mercury vapor lamp means a high intensity discharge lamp, including clear, phosphor-coated, and self-ballasted screw base lamps, in which the major portion of the light is produced by radiation from mercury typically operating at a partial vapor pressure in excess of 100,000 Pa (approximately 1 atm).

Mercury vapor lamp ballast means a device that is designed and marketed to start and operate mercury vapor lamps intended for general illumination by providing the necessary voltage and current.

Specialty application mercury vapor lamp ballast means a mercury vapor lamp ballast that—

(1) Is designed and marketed for operation of mercury vapor lamps used in quality inspection, industrial processing, or scientific use, including fluorescent microscopy and ultraviolet curing; and

(2) In the case of a specialty application mercury vapor lamp ballast, the label of which—

(i) Provides that the specialty application mercury vapor lamp ballast is ‘For specialty applications only, not for general illumination’; and

(ii) Specifies the specific applications for which the ballast is designed.

17. Section 431.286 is revised to read as follows:

§ 431.286 Energy conservation standards and their effective dates.

Mercury vapor lamp ballasts, other than specialty application mercury vapor lamp ballasts, shall not be manufactured or imported after January 1, 2008.

18. Add a new subpart R to read as follows:

Subpart R—Walk-in Coolers and Walk-in Freezers

Sec.
431.301 Purpose and scope.
431.302 Definitions concerning walk-in coolers and walk-in freezers.
Test Procedures
431.303 Materials incorporated by reference.
431.304 Uniform test method for the measurement of energy consumption of walk-in coolers and walk-in freezers.
431.305 [Reserved]
Energy Conservation Standards
431.306 Energy conservation standards and their effective dates.

§ 431.301 Purpose and scope.

This subpart contains energy conservation requirements for walk-in coolers and walk-in freezers, pursuant to Part C of Title III of the Energy Policy and Conservation Act, as amended, 42 U.S.C. 6311-6317.

§ 431.302 Definitions concerning walk-in coolers and walk-in freezers.

Walk-in cooler and walk-in freezer mean an enclosed storage space refrigerated to temperatures, respectively, above, and at or below 32 degrees Fahrenheit that can be walked into, and has a total chilled storage area of less than 3,000 square feet; however the terms do not include products designed and marketed exclusively for medical, scientific, or research purposes.

Test Procedures

§ 431.303 Materials incorporated by reference.

(a) General. We incorporate by reference the following standards into Subpart R of part 431. The material listed has been approved for incorporation by reference by the Director of the Federal Register in accordance with 5 U.S.C. 552(a) and 1 CFR part 51. Any subsequent amendment to a standard by the standard-setting organization will not affect the DOE regulations unless and until amended by DOE. Material is incorporated as it exists on the date of the approval and a notice of any change in the material will be published in the Federal Register. All approved material is available for inspection at the National Archives and Records Administration (NARA). For information on the availability of this material at NARA, call 202-741-6030 or go to http://www.archives.gov/federal_register/code_of_federal_ regulations/ibr_locations.html. Also, this material is available for inspection at U.S. Department of Energy, Office of Energy Efficiency and Renewable Energy, Building Technologies Program, 6th Floor, 950 L'Enfant Plaza, SW., Washington, DC 20024, 202-586-2945, between 9 a.m. and 4 p.m., Monday through Friday, except Federal holidays, or go to: http://www1.eere.energy.gov/buildings/appliance_standards/. Standards can be obtained from the sources listed below.

(b) ASTM. American Society for Testing and Materials, 100 Barr Harbor Drive, West Conshohocken, PA 19428-2959, (610) 832-9500, or http://www.astm.org.

(1) ASTM C518-04 (“ASTM C518”), Standard Test Method for Steady-State Thermal Transmission Properties by Means of the Heat Flow Meter Apparatus, approved May 1, 2004, IBR approved for § 431.304.

(2) [Reserved].

§ 431.304 Uniform test method for the measurement of energy consumption of walk-in coolers and walk-in freezers.

(a) Scope. This section provides test procedures for measuring, pursuant to EPCA, the energy consumption of refrigerated bottled or canned beverage vending machines.

(b) Testing and Calculations. (1) [Reserved]

(2) The R value shall be the 1/K factor multiplied by the thickness of the panel.

(3) The K factor shall be based on ASTM C518 (incorporated by reference; see § 431.303).

(4) For calculating the R value for freezers, the K factor of the foam at 20 degrees Fahrenheit (average foam temperature) shall be used.

(5) For calculating the R value for coolers, the K factor of the foam at 55 degrees Fahrenheit (average foam temperature) shall be used.

§ 431.305 [Reserved]

Energy Conservation Standards

§ 431.306 Energy conservation standards and their effective dates.

(a) Each walk-in cooler or walk-in freezer manufactured on or after January 1, 2009, shall—

(1) Have automatic door closers that firmly close all walk-in doors that have been closed to within 1 inch of full closure, except that this paragraph shall not apply to doors wider than 3 feet 9 inches or taller than 7 feet;

(2) Have strip doors, spring hinged doors, or other method of minimizing infiltration when doors are open;

(3) Contain wall, ceiling, and door insulation of at least R-25 for coolers and R-32 for freezers, except that this paragraph shall not apply to glazed portions of doors nor to structural members;

(4) Contain floor insulation of at least R-28 for freezers;

(5) For evaporator fan motors of under 1 horsepower and less than 460 volts, use—

(i) Electronically commutated motors (brushless direct current motors); or

(ii) 3-phase motors;

(6) For condenser fan motors of under 1 horsepower, use—

(i) Electronically commutated motors (brushless direct current motors);

(ii) Permanent split capacitor-type motors; or

(iii) 3-phase motors; and

(7) For all interior lights, use light sources with an efficacy of 40 lumens per watt or more, including ballast losses (if any), except that light sources with an efficacy of 40 lumens per watt or less, including ballast losses (if any), may be used in conjunction with a timer or device that turns off the lights within 15 minutes of when the walk-in cooler or walk-in freezer is not occupied by people.

(b) Each walk-in cooler or walk-in freezer with transparent reach-in doors manufactured on or after January 1, 2009, shall also meet the following specifications:

(1) Transparent reach-in doors for walk-in freezers and windows in walk-in freezer doors shall be of triple-pane glass with either heat-reflective treated glass or gas fill.

(2) Transparent reach-in doors for walk-in coolers and windows in walk-in cooler doors shall be—

(i) Double-pane glass with heat-reflective treated glass and gas fill; or

(ii) Triple-pane glass with either heat-reflective treated glass or gas fill.

(3) If the walk-in cooler or walk-in freezer has an antisweat heater without antisweat heat controls, the walk-in cooler and walk-in freezer shall have a total door rail, glass, and frame heater power draw of not more than 7.1 watts per square foot of door opening (for freezers) and 3.0 watts per square foot of door opening (for coolers).

(4) If the walk-in cooler or walk-in freezer has an antisweat heater with antisweat heat controls, and the total door rail, glass, and frame heater power draw is more than 7.1 watts per square foot of door opening (for freezers) and 3.0 watts per square foot of door opening (for coolers), the antisweat heat controls shall reduce the energy use of the antisweat heater in a quantity corresponding to the relative humidity in the air outside the door or to the condensation on the inner glass pane.

19. Add a new subpart S to read as follows:

Subpart S—Metal Halide Lamp Ballasts and Fixtures

Sec.
431.321 Purpose and scope.
431.322 Definitions concerning metal halide lamp ballasts and fixtures.
Test Procedures
431.323 Materials incorporated by reference.
431.324 Uniform test method for the measurement of energy efficiency of metal halide ballasts.
Energy Conservation Standards
431.326 Energy conservation standards and their effective dates.

§ 431.321 Purpose and scope.

This subpart contains energy conservation requirements for metal halide lamp ballasts and fixtures, pursuant to Part A-1 of Title III of the Energy Policy and Conservation Act, as amended, 42 U.S.C. 6311-6317.

§ 431.322 Definitions concerning metal halide lamp ballasts and fixtures.

Ballast efficiency means, in the case of a high intensity discharge fixture, the efficiency of a lamp and ballast combination, expressed as a percentage, and calculated in accordance with the following formula: Efficiency = Pout/Pin where:

(1) Pout equals the measured operating lamp wattage;

(2) Pin equals the measured operating input wattage;

(3) The lamp, and the capacitor when the capacitor is provided, shall constitute a nominal system in accordance with the ANSI C78.43, (incorporated by reference; see § 431.323);

(4) For ballasts with a frequency of 60 Hz, Pin and Pout shall be measured after lamps have been stabilized according to section 4.4 of ANSI C82.6 (incorporated by reference; see § 431.323) using a wattmeter with accuracy specified in section 4.5 of ANSI C82.6; and

(5) For ballasts with a frequency greater than 60 Hz, Pin and Pout shall have a basic accuracy of ±0.5 percent at the higher of either 3 times the output operating frequency of the ballast or 2 kHz.

Metal halide ballast means a ballast used to start and operate metal halide lamps.

Metal halide lamp means a high intensity discharge lamp in which the major portion of the light is produced by radiation of metal halides and their products of dissociation, possibly in combination with metallic vapors.

Metal halide lamp fixture means a light fixture for general lighting application designed to be operated with a metal halide lamp and a ballast for a metal halide lamp.

Probe-start metal halide ballast means a ballast that starts a probe-start metal halide lamp that contains a third starting electrode (probe) in the arc tube, and does not generally contain an igniter but instead starts lamps with high ballast open circuit voltage.

Pulse-start metal halide ballast means an electronic or electromagnetic ballast that starts a pulse-start metal halide lamp with high voltage pulses, where lamps shall be started by the ballast first providing a high voltage pulse for ionization of the gas to produce a glow discharge and then power to sustain the discharge through the glow-to-arc transition.

Test Procedures

§ 431.323 Materials incorporated by reference.

(a) General. We incorporate by reference the following standards into Subpart S of Part 431. The material listed has been approved for incorporation by reference by the Director of the Federal Register in accordance with 5 U.S.C. 552(a) and 1 CFR part 51. Any subsequent amendment to a standard by the standard-setting organization will not affect the DOE regulations unless and until amended by DOE. Material is incorporated as it exists on the date of the approval and a notice of any change in the material will be published in the Federal Register. All approved material is available for inspection at the National Archives and Records Administration (NARA). For information on the availability of this material at NARA, call 202-741-6030 or go to http://www.archives.gov/federal_register/code_of_federal_regulations/ibr_locations.html. Also, this material is available for inspection at U.S. Department of Energy, Office of Energy Efficiency and Renewable Energy, Building Technologies Program, 6th Floor, 950 L'Enfant Plaza, SW., Washington, DC 20024, 202-586-2945, between 9 a.m. and 4 p.m., Monday through Friday, except Federal holidays, or go to: http://www1.eere.energy.gov/buildings/appliance_standards/. Standards can be obtained from the sources listed below.

(b) ANSI. American National Standards Institute, 25 W. 43rd Street, 4th Floor, New York, NY 10036, 212-642-4900, or go to http://www.ansi.org.

(1) ANSI C78.43-2004, Revision and consolidation of ANSI C78.1372-1997, .1374-1997, .1375-1997, .1376-1997, .1377-1997, .1378-1997, .1379-1997, .1382-1997, .1384-1997, and .1650-2003 (“ANSI C78.43”), American National Standard for electric lamps: Single-Ended Metal Halide Lamps, approved May 5, 2004, IBR approved for § 431.322;

(2) ANSI C82.6-2005, Proposed Revision of ANSI C82.6-1985 (“ANSI C82.6”), American National Standard for Lamp Ballasts—Ballasts for High-Intensity Discharge Lamps—Methods of Measurement, approved February 14, 2005, IBR approved for § 431.322;

(c) NFPA. National Fire Protection Association, 11 Tracy Drive, Avon, MA 02322, 1-800-344-3555, or go to http://www.nfpa.org;

(1) NFPA 70-2002 (“NFPA 70”), National Electrical Code 2002 Edition, IBR approved for § 431.326;

(2) [Reserved].

(e) UL. Underwriters Laboratories, Inc., COMM 2000, 1414 Brook Drive, Downers Grove, IL 60515, 1-888-853-3503, or go to http://www.ul.com.

(1) UL 1029 (ANSI/UL 1029-2007) (“UL 1029”), Standard for Safety High-Intensity-Discharge Lamp Ballasts, 5th edition, May 25, 1994, which consists of pages dated May 25, 1994, September 28, 1995, August 3, 1998, February 7, 2001 and December 11, 2007, IBR approved for § 431.326.

(2) [Reserved].

§ 431.324 Uniform test method for the measurement of energy efficiency of metal halide ballasts.

(a) Scope. This section provides test procedures for measuring, pursuant to EPCA, the energy efficiency of metal halide ballasts.

(b) Testing and Calculations. [Reserved]

Energy Conservation Standards

§ 431.326 Energy conservation standards and their effective dates.

(a) Except as provided in paragraph (b) of this section, each metal halide lamp fixture manufactured on or after January 1, 2009, and designed to be operated with lamps rated greater than or equal to 150 watts but less than or equal to 500 watts shall contain—

(1) A pulse-start metal halide ballast with a minimum ballast efficiency of 88 percent;

(2) A magnetic probe-start ballast with a minimum ballast efficiency of 94 percent; or

(3) A nonpulse-start electronic ballast with either a minimum ballast efficiency of 92 percent for wattages greater than 250 watts; or a minimum ballast efficiency of 90 percent for wattages less than or equal to 250 watts.

(b) The standards described in paragraph (a) of this section do not apply to—

(1) Metal halide lamp fixtures with regulated lag ballasts;

(2) Metal halide lamp fixtures that use electronic ballasts that operate at 480 volts; or

(3) Metal halide lamp fixtures that;

(i) Are rated only for 150 watt lamps;

(ii) Are rated for use in wet locations; as specified by the National Fire Protection Association in NFPA 70 (incorporated by reference; see § 431.323); and

(iii) Contain a ballast that is rated to operate at ambient air temperatures above 50°C, as specified in UL 1029, (incorporated by reference; see § 431.323).

[FR Doc. E9-5935 Filed 3-20-09; 8:45 am]

BILLING CODE 6450-01-P